DEPARTMENT OF HOMELAND SECURITY

Coast Guard

46 CFR Parts 1, 2, 5, 6, 7, 8, 10, 11, 12, 15, 16, 25, 27, 28, 30, 31, 32, 34, 35, 39, 42, 44, 46, 50, 52, 53, 54, 56, 57, 58, 59, 61, 62, 63, 64, 69, 70, 71, 76, 77, 78, 90, 91, 92, 95, 96, 97, 105, 107, 108, 109, 110, 111, 114, 115, 116, 125, 126, 127, 147, 148, 150, 151, 153, 154, 159, 160, 161, 162, 164, 169, 170, 171, 172, 174, 175, 176, 177, 179, 180, 188, 189, 193, 195, 197, 199, and 401

49 CFR Parts 7, 450, 451, and 452

[Docket No. USCG-2013-0671]

RIN 1625-AC08

Shipping and Transportation; Technical, Organizational, and Conforming Amendments

AGENCY: Coast Guard, DHS.

ACTION: Final rule.

SUMMARY: The Coast Guard is issuing a final rule that makes non-substantive changes throughout titles 46 and 49 of the Code of Federal Regulations. The purpose of this rule is to make conforming amendments and technical corrections to Coast Guard shipping and transportation regulations. This rule will have no substantive effect on the regulated public. These changes are provided to coincide with the annual recodification of titles 46 and 49 on October 1, 2013.

DATES: This final rule is effective September 30, 2013.

ADDRESSES: Comments and material received from the public, as well as documents mentioned in this preamble as being available in the docket, are part of docket USCG-2013-0671 and are available for inspection or copying at the Docket Management Facility (M-30), U.S. Department of Transportation, West Building Ground Floor, Room W12-140, 1200 New Jersey Avenue SE., Washington, DC 20590, between 9 a.m. and 5 p.m., Monday through Friday, except Federal holidays. You may also find this docket online by going to http://www.regulations.gov and following the instructions on that Web site.

FOR FURTHER INFORMATION CONTACT: If you have questions on this rule, call or email Mr. Paul H. Crissy, Coast Guard; telephone 202-372-1093, email Paul.H.Crissy@uscg.mil. If you have questions on viewing or submitting material to the docket, call Barbara Hairston, Program Manager, Docket Operations, telephone 202-366-9826.

SUPPLEMENTARY INFORMATION:

Table of Contents for Preamble

I. Abbreviations

II. Regulatory History

III. Background and Purpose

IV. Discussion of the Rule

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

CFR Code of Federal Regulations

DHS Department of Homeland Security

E.O. Executive Order

FR Federal Register

IEC International Electrotechnical Commission

NFPA National Fire Protection Association

OMB Office of Management and Budget

PHMSA Pipeline and Hazardous Materials Safety Administration

§ Section symbol

U.S.C. United States Code

VCDOA Vice Commandant Decision on Appeal

II. Regulatory History

We did not publish a notice of proposed rulemaking for this rule. Under 5 U.S.C. 553(b)(A), the Coast Guard finds this rule is exempt from notice and comment rulemaking requirements because these changes involve rules of agency organization, procedure, or practice. In addition, the Coast Guard finds notice and comment procedures are unnecessary under 5 U.S.C. 553(b)(B), as this rule consists only of corrections and editorial, organizational, and conforming amendments, and these changes will have no substantive effect on the public. Under 5 U.S.C. 553(d)(3), the Coast Guard finds that, for the same reasons, good cause exists for making this rule effective upon publication in the Federal Register.

III. Background and Purpose

Each year, the printed editions of Titles 46 and 49 of the Code of Federal Regulations (CFR) are re-codified on October 1. This rule, which becomes effective September 30, 2013, makes technical and editorial corrections throughout Titles 46 and 49. This rule does not create or change any substantive requirements. For a comprehensive list of each change in Titles 46 and 49 in the CFR, see the Table of Changes available in the docket for this rulemaking.

IV. Discussion of the Rule

This rule amends 46 CFR 1.01-10(b) to update and clarify titles and organizational structure for certain Coast Guard offices. No modifications to the organization or reporting structure are affected by this change. For a list of each title name change, see the Table of Changes in the docket.

This rule amends 46 CFR 2.10-1(a) to clarify the fee requirements for vessels that require a Certificate of Inspection or a Certificate of Compliance. United States vessels require a Certificate of Inspection; foreign vessels require a Certificate of Compliance. Also, references to “inspection fees” are being changed to read “inspection and examination fees” to be consistent throughout the part. No change to the fees or requirements for inspection under 46 CFR 2.10-1(a) is made by this rule.

This rule amends 46 CFR 2.10-120(b) to clarify when an overseas inspection fee should be paid. The overseas inspection fee must be paid before the inspection is performed, but should not be paid until the Coast Guard agrees to perform the inspection. This change clarifies that sequence.

This rule amends 46 CFR 7.55(b) to replace a geographic reference to the “Oregon Inlet radiobeacon” with “Oregon Inlet Jetty Light.” The Oregon Inlet radiobeacon was disestablished in 1994 and is no longer charted or listed in any light list. These landmarks in this part are used to define the boundary lines for certain U.S. laws listed in 46 CFR 7.1.

This rule amends the definition of “fixed fire-extinguishing system” in 46 CFR 27.101 to remove an old standard that was inadvertently left in place in a 2012 revision. On June 2, 2012, the Coast Guard amended the definition of “fixed fire-extinguishing system” in 46 CFR 27.101 (77 FR 33861). Under the old definition, a fixed fire-extinguishing system was required to meet National Fire Protection Association Standard 2001 (NFPA 2001). Under the definition added in 2012, a fixed fire-extinguishing system must comply with the regulations in 46 CFR 95.16 and 46 CFR 162.161, which incorporate NFPA 2001. The old standard should have been removed in 2012. The NPRM and final rule both discuss revising the regulations surrounding clean agent and inert systems and list 46 CFR 27.101 as a section that will be revised.

This rule amends the table to 46 CFR 39.10-5(b), § 39.20-9(b)(8), several subparagraphs in 46 CFR 110.10-1(g), § 110.15-1, and numerous other paragraphs in 46 CFR part 111 to correct the references to the International Electrotechnical Commission's (IEC) standards. The standards have not changed, but the IEC numbering system has been modified so that all standards are designated with a 60000-series number. For example, IEC 533 is now called IEC 60533; IEC 92-202 is now called IEC 600092-202.

This rule clarifies requirements related to magazines and storing ammunition in 46 CFR 147.95. The Pipeline and Hazardous Materials Safety Administration (PHMSA) recently amended their regulations at 49 CFR part 179. PHMSA eliminated the use of the word “magazine” for storing explosives and redesignated some sections of the CFR containing rules about storing explosives. As a result, Coast Guard regulations now contain incorrect language and references. This rule changes Coast Guard regulations to eliminate use of the term “magazine” in favor of the PHMSA terminology and to point the reader to the correct references in the PHMSA regulations.

This rule corrects a reference in § 154.151(c) to point to the correct section relating to Coast Guard acceptance of foreign vessels for U.S. service. The previous reference was incorrect.

This rule corrects a typographical error in 46 CFR 176.675, which points the reader to a nonexistent CFR section. Under the authority of 46 CFR 176.675, the Commandant extends the interval between certain examinations. However, § 176.675 erroneously lists § 176.605 as the section which establishes the normal interval for these examinations. The correct section is 46 CFR 176.600. There is no section 176.605 in Title 46 CFR.

This rule corrects a typographical error in 46 CFR 180.137(e)(3) and 180.137(e)(4). These rules address the length and strength of lines that attach life floats and buoyant apparatus to a vessel. The error directs the reader to 46 CFR 180.175(e)(3), which does not exist. The correct reference is 46 CFR 180.175(f)(3).

In 46 CFR 401.110(a)(16), the name of a Coast Guard office, “Great Lakes Pilotage Division,” is being changed to “Great Lakes Pilotage Branch.”

This rule updates the address for the Coast Guard headquarters in hundreds of sections throughout Titles 46 and 49 in the CFR. Coast Guard Headquarters has moved to a new facility at St. Elizabeths Campus in the Anacostia neighborhood of southeast Washington, DC. This is a matter of agency management, and is thus exempt from the requirements of the Administrative Procedure Act (5 U.S.C. 553). Other addresses in 46 CFR are being updated based on information received from other agencies. For a list of each address change, see the Table of Changes in the docket for this rulemaking.

V. Regulatory Analyses

We developed this rule after considering numerous statutes and Executive Orders (E.O.s) related to rulemaking. Below we summarize our analyses based on these statutes and E.O.s.

A. Regulatory Planning and Review

E.O.s 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

This rule is not a significant regulatory action under section 3(f) of E.O. 12866 as supplemented by E.O. 13563, and does not require an assessment of potential costs and benefits under section 6(a)(3) of E.O. 12866. The Office of Management and Budget (OMB) has not reviewed it under E.O. 12866. Nonetheless, we assessed the costs and benefits of the rule to ascertain its probable impacts on industry. Because this rule involves non-substantive changes and internal agency practices and procedures, it will not impose any additional costs on the public.

B. Small Entities

Under the Regulatory Flexibility Act (5 U.S.C. 601-612), rules exempt from the notice and comment requirements of the Administrative Procedure Act (APA) are not required to examine the impact of the rule on small entities. Nevertheless, we have considered whether this rule would have a significant economic impact on a substantial number of small entities. The term “small entities” comprises small businesses, not-for-profit organizations that are independently owned and operated and are not dominant in their fields, and governmental jurisdictions with populations of less than 50,000. There is no cost to this rule and we do not expect it to have an impact on small entities because the provisions of this rule are technical and non-substantive. This rule will have no substantive effect on the public and will impose no additional costs. Therefore, the Coast Guard certifies under 5 U.S.C. 605(b) that this rule will not have a significant economic impact on a substantial number of small entities.

C. Assistance for Small Entities

Under section 213(a) of the Small Business Regulatory Enforcement Fairness Act of 1996, Public Law 104-121, we offer to assist small entities in understanding this rule so that they could better evaluate its effects on them and participate in the rulemaking. If this rule would affect your small business, organization, or governmental jurisdiction, and you have questions concerning its provisions or options for compliance, please contact Mr. Paul Crissy, U.S. Coast Guard; telephone 202-372-1093, email Paul.H.Crissy@uscg.mil. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995, 44 U.S.C. 3501-3520.

E. Federalism

A rule has implications for federalism under E.O. 13132 (“Federalism”) if it has a substantial direct effect on State or local governments and would either preempt State law or impose a substantial direct cost of compliance on them. We have analyzed this rule under E.O. 13132 and have determined that it does not have implications for federalism.

F. Unfunded Mandates Reform Act

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. This rule will not result in such an expenditure.

G. Taking of Private Property

This rule will not cause a taking of private property or otherwise have taking implications under E.O. 12630 (“Governmental Actions and Interference With Constitutionally Protected Property Rights”).

H. Civil Justice Reform

This rule meets applicable standards in sections 3(a) and 3(b)(2) of E.O. 12988, (“Civil Justice Reform”), to minimize litigation, eliminate ambiguity, and reduce burden.

I. Protection of Children

We have analyzed this rule under E.O. 13045 (“Protection of Children From Environmental Health Risks and Safety Risks”). This rule is not an economically significant rule and would not create an environmental risk to health or risk to safety that might disproportionately affect children.

J. Indian Tribal Governments

This rule does not have tribal implications under E.O. 13175 (“Consultation and Coordination With Indian Tribal Governments”), because it would not have a substantial direct effect on one or more Indian tribes, on the relationship between the Federal Government and Indian tribes, or on the distribution of power and responsibilities between the Federal Government and Indian tribes.

K. Energy Effects

We have analyzed this rule under E.O. 13211 (“Actions Concerning Regulations That Significantly Affect Energy Supply, Distribution, or Use”). We have determined that it is not a “significant energy action” under that order because it is not a “significant regulatory action” under E.O. 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards except to update references to industry standards that are already in use. Therefore, we did not consider the use of voluntary consensus standards in this rule.

M. Environment

We have analyzed this rule under Department of Homeland Security Management Directive 023-01 and Commandant Instruction M16475.lD, which guide the Coast Guard in complying with the National Environmental Policy Act of 1969 (42 U.S.C. 4321-4370f), and have concluded that this action is one of a category of actions that do not individually or cumulatively have a significant effect on the human environment. This rule is categorically excluded under section 2.B.2, figure 2-1, paragraph (34)(a) of the Instruction. This rule involves amendments to regulations which are editorial or procedural. An environmental analysis checklist and a categorical exclusion determination are available in the docket for this rule where indicated under ADDRESSES.

List of Subjects

46 CFR Part 1

Administrative practice and procedure, Organization and functions (Government agencies), Reporting and recordkeeping requirements.

46 CFR Parts 2, 170, and 174

Marine safety, Reporting and recordkeeping requirements, Vessels.

46 CFR Part 5

Administrative practice and procedure, Alcohol abuse, Drug abuse, Investigations, Seamen.

46 CFR Part 6

Navigation (water), Reporting and recordkeeping requirements, Vessels.

46 CFR Part 7

Law enforcement, Vessels.

46 CFR Part 8

Administrative practice and procedure, Organization and functions (Government agencies), Reporting and recordkeeping requirements, Vessels.

46 CFR Part 10

Penalties, Reporting and recordkeeping requirements, Schools, Seamen.

46 CFR Part 11

Incorporation by reference, Penalties, Reporting and recordkeeping requirements, Schools, Seamen.

46 CFR Part 12

Penalties, Reporting and recordkeeping requirements, Seamen.

46 CFR Part 15

Reporting and recordkeeping requirements, Seamen, Vessels.

46 CFR Part 16

Drug testing, Marine safety, Reporting and recordkeeping requirements, Safety, Transportation.

46 CFR Part 25

Fire prevention, Marine safety, Reporting and recordkeeping requirements.

46 CFR Part 27

Fire prevention, Marine safety, Reporting and recordkeeping requirements, Vessels.

46 CFR Part 28

Alaska, Fire prevention, Fishing vessels, Marine safety, Occupational safety and health, Reporting and recordkeeping requirements, Seamen.

46 CFR Part 30

Cargo vessels, Foreign relations, Hazardous materials transportation, Penalties, Reporting and recordkeeping requirements, Seamen.

46 CFR Part 31

Cargo vessels, Marine safety, Reporting and recordkeeping requirements.

46 CFR Part 32

Cargo vessels, Fire prevention, Marine safety, Navigation (water), Occupational safety and health, Reporting and recordkeeping requirements, Seamen.

46 CFR Part 34

Cargo vessels, Fire prevention, Marine safety.

46 CFR Part 35

Cargo vessels, Marine safety, Navigation (water), Occupational safety and health, Reporting and recordkeeping requirements, Seamen.

46 CFR Part 39

Cargo vessels, Fire prevention, Hazardous materials transportation, Marine safety, Occupational safety and health, Reporting and recordkeeping requirements.

46 CFR Part 42

Penalties, Reporting and recordkeeping requirements, Vessels.

46 CFR Parts 44, 50, 52, 53, 54, 56, 57, 58, 59, 61, 62, 63, 64, and 110

Reporting and recordkeeping requirements, Vessels.

46 CFR Part 46

Passenger vessels, Penalties, Reporting and recordkeeping requirements.

46 CFR Part 69

Measurement standards, Penalties, Reporting and recordkeeping requirements, Vessels.

46 CFR Parts 70 and 71

Marine safety, Passenger vessels, Reporting and recordkeeping requirements.

46 CFR Part 76

Fire prevention, Marine safety, Passenger vessels.

46 CFR Part 77

Marine safety, Navigation (water), Passenger vessels.

46 CFR Part 78

Marine safety, Navigation (water), Passenger vessels, Penalties, Reporting and recordkeeping requirements.

46 CFR Part 90

Cargo vessels, Marine safety.

46 CFR Part 91

Cargo vessels, Marine safety, Reporting and recordkeeping requirements.

46 CFR Part 92

Cargo vessels, Fire prevention, Marine safety, Occupational safety and health, Seamen.

46 CFR Part 95

Cargo vessels, Fire prevention, Marine safety.

46 CFR Part 96

Cargo vessels, Marine safety, Navigation (water).

46 CFR Part 97

Cargo vessels, Marine safety, Navigation (water), Reporting and recordkeeping requirements.

46 CFR Part 105

Cargo vessels, Fishing vessels, Hazardous materials transportation, Marine safety, Petroleum, Seamen.

46 CFR Part 107

Marine safety, Oil and gas exploration, Reporting and recordkeeping requirements, Vessels.

46 CFR Part 108

Fire prevention, Marine safety, Occupational safety and health, Oil and gas exploration, Vessels.

46 CFR Part 109

Marine safety, Occupational safety and health, Oil and gas exploration, Reporting and recordkeeping requirements, Vessels.

46 CFR Part 111

Vessels.

46 CFR Parts 114, 175, and 177

Marine safety, Passenger vessels, Reporting and recordkeeping requirements.

46 CFR Part 115 and 176

Fire prevention, Marine safety, Passenger vessels, Reporting and recordkeeping requirements.

46 CFR Part 116

Fire prevention, Marine safety, Passenger vessels, Seamen.

46 CFR Part 125

Administrative practice and procedure, Cargo vessels, Hazardous materials transportation, Marine safety, Seamen.

46 CFR Part 126

Cargo vessels, Marine safety, Reporting and recordkeeping requirements.

46 CFR Part 127

Cargo vessels, Fire prevention, Marine safety, Occupational safety and health, Reporting and recordkeeping requirements, Seamen.

46 CFR Part 147

Hazardous materials transportation, Labeling, Marine safety, Packaging and containers, Reporting and recordkeeping requirements.

46 CFR Part 148

Cargo vessels, Hazardous materials transportation, Marine safety.

46 CFR Part 150

Hazardous materials transportation, Marine safety, Occupational safety and health, Reporting and recordkeeping requirements.

46 CFR Part 151

Cargo vessels, Hazardous materials transportation, Marine safety, Reporting and recordkeeping requirements, Water pollution control.

46 CFR Part 153

Administrative practice and procedure, Cargo vessels, Hazardous materials transportation, Marine safety, Reporting and recordkeeping requirements, Water pollution control.

46 CFR Part 154

Cargo vessels, Gases, Hazardous materials transportation, Marine safety, Reporting and recordkeeping requirements.

46 CFR Part 159

Business and industry, Laboratories, Marine safety, Reporting and recordkeeping requirements.

46 CFR Part 160

Marine safety, Reporting and recordkeeping requirements.

46 CFR Parts 161 and 164

Fire prevention, Marine safety, Reporting and recordkeeping requirements.

46 CFR Part 162

Fire prevention, Marine safety, Oil pollution, Reporting and recordkeeping requirements.

46 CFR Part 169

Fire prevention, Marine safety, Reporting and recordkeeping requirements, Schools, Vessels.

46 CFR Parts 171, 179, and 180

Marine safety, Passenger vessels.

46 CFR Part 172

Cargo vessels, Hazardous materials transportation, Marine safety.

46 CFR Part 188

Marine safety, Oceanographic research vessels.

46 CFR Part 189

Marine safety, Oceanographic research vessels, Reporting and recordkeeping requirements.

46 CFR Part 193

Fire prevention, Marine safety, Oceanographic research vessels.

46 CFR Part 195

Marine safety, Navigation (water), Oceanographic research vessels.

46 CFR Part 197

Benzene, Diving, Marine safety, Occupational safety and health, Reporting and recordkeeping requirements, Vessels.

46 CFR Part 199

Cargo vessels, Marine safety, Oil and gas exploration, Passenger vessels, Reporting and recordkeeping requirements.

46 CFR Part 401

Administrative practice and procedure, Great Lakes, Navigation (water), Penalties, Reporting and recordkeeping requirements, Seamen.

49 CFR Part 7

Freedom of information, Reporting and recordkeeping requirements.

49 CFR Parts 450 and 452

Freight, Packaging and containers, Reporting and recordkeeping requirements, Safety.

49 CFR Part 451

Freight, Packaging and containers, Safety.

For the reasons discussed in the preamble, the Coast Guard amends 46 CFR parts 1, 2, 5, 6, 7, 8, 10, 11, 12, 15, 16, 25, 27, 28, 30, 31, 32, 34, 35, 39, 42, 44, 46, 50, 52, 53, 54, 56, 57, 58, 59, 61, 62, 63, 64, 69, 70, 71, 76, 77, 78, 90, 91, 92, 95, 96, 97, 105, 107, 108, 109, 110, 111, 114, 115, 116, 125, 126, 127, 147, 148, 150, 151, 153, 154, 159, 160, 161, 162, 164, 169, 170, 171, 172, 174, 175, 176, 177, 179, 180, 188, 189, 193, 195, 197, 199, and 401; and 49 CFR parts 7, 450, 451, and 452 as follows:

Title 46

PART 1—ORGANIZATION, GENERAL COURSE AND METHODS GOVERNING MARINE SAFETY FUNCTIONS

1. The authority citation for part 1 continues to read as follows:

Authority: 5 U.S.C. 552; 14 U.S.C. 633; 46 U.S.C. 7701; 46 U.S.C. Chapter 93; Pub. L. 107-296, 116 Stat. 2135; Department of Homeland Security Delegation No. 0170.1; section 1.01-35 also issued under the authority of 44 U.S.C. 3507.

2. In § 1.01-10:

a. Remove paragraphs (b)(1) and (2); and

b. Add paragraphs (c) and (d).

The additions read as follows:

§ 1.01-10 Organization.

* * * * *

(c) The Deputy for Operations Policy and Capabilities (CG-DCO-D), under the general direction of the Commandant, directs, supervises, and coordinates the activities of the Assistant Commandant for Response (CG-5R), the Assistant Commandant for Prevention Policy (CG-5P), and the Director of Operations Resource Management (CG-DCO-R).

(1) CG-5R directs, supervises, and coordinates the activities of:

(i) The Director of Incident Management and Preparedness Policy (CG-5RI), including—

(A) The Office of Environmental Response Policy (CG-MER),

(B) The Office of Search and Rescue (CG-SAR), and

(C) The Office of Crisis and Contingency Planning and Exercise Policy (CG-CPE); and

(ii) The Director of Law Enforcement, Maritime Security and Defense Operations Policy (CG-5RE) including:

(A) The Office of Law Enforcement Policy (CG-MLE),

(B) The Office of Maritime Security Response Policy (CG-MSR), and

(C) The Office of Counterterrorism and Defense Operations Policy (CG-DOD). (2) CG-5P directs, supervises and coordinates the activities of:

(i) The Director of Commercial Regulations and Standards (CG-5PS) including

(A) The Office of Design and Engineering Standards (CG-ENG),

(B) The Office of Operating and Environmental Standards (CG-OES), and

(C) The Office of Standards Evaluation and Development (CG-REG); and

(ii) The Director of Inspections and Compliance (CG-5PC) including

(A) The Office of International and Domestic Port Assessments (CG-PSA),

(B) The Office of Auxiliary and Boating Safety (CG-BSX),

(C) The Office of Commercial Vessel Compliance (CG-CVC),

(D) The Office of Port & Facility Compliance (CG-FAC), and

(E) The Office of Investigations and Casualty Analysis (CG-INV); and

(iii) The Director of Marine Transportation Systems (CG-5PW) including

(A) The Office of Bridge Programs (CG-BRG),

(B) The Office of Waterways and Ocean Policy (CG-WWM), and

(C) The Office of Navigation Systems (CG-NAV); and

(iv) CG-5PC exercises technical control over the Commanding Officer, National Maritime Center (NMC), and, through the District Commander, supervises the administration of the Marine Safety Division of District Offices and Officers in Charge, Marine Inspection.

(3) CG-DCO-R directs, supervises and coordinates the activities of

(i) The Office of Workforce Management (CG-DCO-R-1),

(ii) The Office of Budget Development (CG-DCO-R-2),

(iii) The Office of Budget Execution (CG-DCO-R-3), and

(iv) The Office of Information Resources (CG-DCO-R-6).

(d) The Port Safety and Security programs administered by the Chief, Office of Port Security Assessments (CG-PSA), and the Marine Environmental Response programs administered by the Chief, Office of Environmental Response Policy (CG-MER), are guided by regulations contained in 33 CFR chapter I.

(1) The Deputy for Operations Policy and Capabilities (CG-DCO-D) exercises technical control over the Commanding Officer, National Maritime Center (NMC), and, through the District Commander, supervises the administration of the Marine Safety Division of District Offices and Officers in Charge, Marine Inspection.

(i) The Director of Commercial Regulations and Standards (CG-5PS), under the general direction and supervision of the Deputy for Operations Policy and Capabilities (CG-DCO-D), establishes federal policies for development of marine safety, security, and environmental protection treaties, laws, and regulations; develops safety, security, and environmental protection standards for the maritime industry; integrates all marine safety, security, and environmental protection regulatory programs; prepares legislation, regulations, and industry guidance for new safety and environmental protection programs; and maintains an active program for development of third party consensus industry standards.

(A) The Chief, Office of Design and Engineering Standards (CG-ENG), at Headquarters, under the direction of the Assistant Commandant for Prevention Policy (CG-5P) and the Director of Commercial Regulations and Standards (CG-5PS), manages the program for defining the overall regulatory approach for vessels, offshore structures, and other marine systems incorporating safety considerations regarding the role of the human element; develops policies and regulations on load line matters and supervises classification societies authorized to assign load lines on behalf of the Coast Guard; oversees the development and maintenance of programs that incorporate risk-based methods in making safety determinations and policies; and oversees technical research and development for safety and environmental protection associated with marine vessels, structures and facilities.

(B) The Chief, Office of Operating and Environmental Standards (CG-OES), at Headquarters, under the direction of the Assistant Commandant for Prevention Policy (CG-5P) and the Director of Commercial Regulations and Standards (CG-5PS), coordinates and integrates program standards for personnel qualification, vessel manning, vessel and facility operations, cargo systems and handling, and environmental protection; develops and maintains standards, regulations, and industry guidance for maritime industry operations to prevent deaths, injuries, property damage, and environmental harm; develops and maintains safety standards and regulations for commercial fishing industry vessels and uninspected commercial vessels; and develops and maintains health and safety standards and regulations for U.S.-inspected vessels.

(C) The Chief, Office of Standards Evaluation and Development (CG-REG), at Headquarters, under the Direction of the Assistant Commandant for Prevention Policy (CG-5P) and the Director of Commercial Regulations and Standards (CG-5PS), coordinates the development of new standards, programs, and regulations across all technical and operational areas of marine safety and environmental protection; provides comprehensive analytical support for all standards assessment and development efforts; coordinates development of measures of effectiveness for assessing regulatory programs and consensus standards; and oversees the Coast Guard's rulemaking development program.

(D) The Commanding Officer, Marine Safety Center, under the Direction of the Assistant Commandant for Prevention Policy (CG-5P) and the Director of Commercial Regulations and Standards (CG-5PS), conducts reviews and approvals of plans, calculations, and other materials concerning the design, construction, alterations, and repair of commercial vessels to determine conformance with the marine inspection laws, regulations, and implementing directions, and administers the U.S. Tonnage Measurement program.

(ii) The Director of Inspections and Compliance (CG-5PC), under the general direction and supervision of the Assistant Commandant for Prevention Policy (CG-5P), acts as Program Manager for the Marine Safety, Security, and Environmental Protection Programs; directs, coordinates, and integrates the Coast Guard's marine safety and environmental protection compliance programs, contingency planning, response operations, and investigations programs; establishes and coordinates field implementation policies and priorities for all marine safety commands and units; serves as the focal point for field support and technical guidance; and provides oversight of marine documentation and marine personnel administration matters.

(A) The Chief, Office of Commercial Vessel Compliance (CG-CVC), at Headquarters, under the direction of the Assistant Commandant for Prevention Policy (CG-5P) and the Director of Inspections and Compliance (CG-5PC), administers and balances all marine safety and environmental protection compliance programs, including direction of Coast Guard activities and oversight of third parties and industry programs; develops, publishes, and maintains program policies for vessel compliance, interprets standards and regulations, and provides field guidance for execution and enforcement; administers the marine inspection program, commercial fishing vessel examination program, and foreign vessel boarding program for the enforcement of commercial vessel material and operational safety standards; and supervises the administration of the manning of U.S. vessels and credentialing of U.S. mariners.

(B) The Chief, Office of Environmental Response Policy (CG-MER), at Headquarters, under the Direction of the Deputy for Operations Policy and Capabilities (CG-DCO-D) and the Assistant Commandant for Response Policy (CG-5R), coordinates and integrates field planning, preparedness, and response operations for pollution incidents, natural disasters, marine accidents, terrorism, and other threats to public safety, the marine environment, or marine transportation and commerce; develops, publishes, and maintains program policies for preparedness and response, interprets laws and regulations, and provides field guidance for execution; provides guidance regarding emergency authorities of the Captain of the Port (COTP); and administers Office programs for ports and waterway management, bridging compliance, and response efforts with an active presence in the marine environment.

(C) The Chief, Office of Investigations and Analyses (CG-INV), at Headquarters, under the direction of the Assistant Commandant for Prevention Policy (CG-5P) and the Director of Inspections and Compliance (CG-5PC), reviews investigations of marine casualties; manages, develops policy for and evaluates domestic and international programs and processes associated with investigations of marine casualties and injuries; manages analysis of casualties and casualty data, civil penalties and other remedial programs (including proceedings to suspend or revoke Coast Guard credentials held by mariners); and manages marine employer drug and alcohol testing programs.

(D) The Commanding Officer, Coast Guard National Maritime Center (NMC), under technical control of the Director of Inspections and Compliance (CG-5PC), administers the mariner credentialing program; evaluates merchant mariners for suitability for service; issues merchant mariner credentials; evaluates and conducts oversight of approved courses; and exercises operational and administrative control over the NMC detachments.

(iii) The Director of Operations Resource Management (CG-DCO-R), under the general direction and supervision of the Deputy Commandant for Operations (CG-DCO), serves as Facility Manager for the marine safety programs; coordinates and integrates financial, informational, and human resources; plans, acquires, develops, and allocates resources for development and execution of the Coast Guard's marine safety programs; provides the focal point for all resource issues in support of the Standards and Operations Directorates; and oversees the development and management of the Coast Guard's direct user fee program.

(2) The Judge Advocate General and Chief Counsel of the Coast Guard (CG-094), under the general direction of and in coordination with the General Counsel, Department of Homeland Security, is the senior legal advisor to the Commandant, Vice Commandant, and senior staff officers. The Judge Advocate General advises on all cases and controversies arising under the various authorities of the Coast Guard involving alleged violations of international, maritime, navigation, and vessel inspection laws, or regulations prescribed there under and published in this chapter or in 33 CFR chapter I, and reviews appeals to the Commandant from actions derived from these authorities. On completion of such a review, the Judge Advocate General prepares a proposed action for the Commandant's consideration or, in appropriate cases, takes final action on behalf of, and as directed by, the Commandant.

§ 1.03-15 [Amended]

3. In § 1.03-15(h)(3), following the text “must be addressed to”, remove the text “Commandant (CG-5P), Coast Guard Headquarters, 2100 2nd Street SW., Stop 7581, Washington, DC 20593-7581,” and add, in its place, the text “Commandant (CG-5PC), Attn: Director of Inspections and Compliance, U.S. Coast Guard Stop 7501, 2703 Martin Luther King Jr. Avenue SE., Washington, DC 20593-7501,”.

§ 1.03-40 [Amended]

4. In § 1.03-40, remove the text “Director of Prevention Policy, Commandant (CG-54)” wherever it appears, and add, in its place, the text “Director of Inspections and Compliance (CG-5PC)”.

§ 1.03-45 [Amended]

5. In § 1.03-45, remove the text “Assistant Commandant for Prevention Policy (CG-5P)” wherever it appears, and add, in its place, the text “Director of Inspections and Compliance (CG-5PC)”.

§ 1.03-50 [Amended]

6. In § 1.03-50, remove the text “Commandant (CG-DCO-D)” and add, in its place, the text “Commandant (CG-5P)”.

PART 2—VESSEL INSPECTIONS

7. The authority citation for part 2 continues to read as follows:

Authority: Sec. 622, Pub. L. 111-281; 33 U.S.C. 1903; 43 U.S.C. 1333; 46 U.S.C. 2110, 3103, 3205, 3306, 3307, 3703; 46 U.S.C. Chapter 701; E.O. 12234, 45 FR 58801, 3 CFR, 1980 Comp., p. 277; Department of Homeland Security Delegation No. 0170.1.

8. Revise § 2.10-1(a) to read as follows:

§ 2.10-1 Applicability.

(a) This subpart establishes inspection and examination fees for all owners or operators requesting certification, including those for vessels that are required to have a Certificate of Inspection and those required to have a Certificate of Compliance.

* * * * *

§ 2.10-20 [Amended]

9. In § 2.10-20(e), remove the text “Commandant (CG-DCO-83) is: Commandant (CG-DCO-83), United States Coast Guard, 2100 2nd St. SW., Stop 7681, Washington, DC 20593-7681” and add, in its place, the text “Commandant (CG-DCO-83), Attn: Office of Budget Execution, U.S. Coast Guard Stop 7318, 2703 Martin Luther King Jr. Avenue SE., Washington, DC 20593-7318”.

10. Revise § 2.10-120(b) to read as follows:

§ 2.10-120 Overseas inspection and examination fees.

* * * * *

(b) The overseas inspection and examination fee for each vessel must be received before an overseas inspection or examination is conducted.

§ 2.45-5 [Amended]

11. In § 2.45-5(a), following the text “available for inspection at the”, remove the text “Coast Guard's Office of Design and Engineering Systems (CG-ENG), 2100 Second Street SW., Washington, DC 20593-0001” and add, in its place, the text “Coast Guard Headquarters. Contact Commandant (CG-ENG), Attn: Office of Design and Engineering Systems, U.S. Coast Guard Stop 7509, 2703 Martin Luther King Jr. Avenue SE., Washington, DC 20593-7509”.

§ 2.45-25 [Amended]

12. In § 2.45-25(a), following the text “English language to”, remove the text “U.S. Coast Guard, Commandant (CG-ENG), Office of Design and Engineering Standards, 2100 Second Street SW., Stop 7126, Washington DC 20593-7126” and add, in its place, the text “Commandant (CG-ENG), Attn: Office of Design and Engineering Systems, U.S. Coast Guard Stop 7509, 2703 Martin Luther King Jr. Avenue SE., Washington, DC 20593-7509”.

§ 2.75-10 [Amended]

13. In § 2.75-10(b), following the text “addressed to the”, remove the text “Commandant (CG-ENG), 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”.

§ 2.75-25 [Amended]

14. In § 2.75-25(c)(1), following the text “letterhead paper to the”, remove the text “Commandant (CG-5PS), U.S. Coast Guard, 2100 2nd Street SW., Stop 7126, Washington, DC 20593-7126” and add, in its place, the text “Commandant (CG-5PS), Attn: Director of Commercial Regulations, U.S. Coast Guard Stop 7509, 2703 Martin Luther King Jr. Avenue SE., Washington, DC 20593-7509”.

PART 5—MARINE INVESTIGATION REGULATIONS—PERSONNEL ACTION

15. The authority citation for part 5 continues to read as follows:

Authority: 46 U.S.C. 2103, 7101, 7301, 7701; Department of Homeland Security Delegation No. 0170.1.

§ 5.713 [Amended]

16. In § 5.713(b), following the text “should be addressed to”, remove the text “Commandant (CG-094), U.S. Coast Guard, 2100 2nd St. SW., Stop 7121, Washington, DC 20593-7121” and add, in its place, the text “Commandant (CG-094), Attn: Judge Advocate General (JAG) and Chief Counsel, U.S. Coast Guard Stop 7213, 2703 Martin Luther King Jr. Avenue SE., Washington, DC 20593-7213”.

§ 5.903 [Amended]

17. In § 5.903(b), following the text “addressed to the”, remove the text “Commandant, U.S. Coast Guard, 2100 2nd St. SW., Stop 7121, Washington, DC 20593-7121” and add, in its place, the text “Commandant (CG-094), Attn: Judge Advocate General (JAG) and Chief Counsel, U.S. Coast Guard Stop 7213, 2703 Martin Luther King Jr. Avenue SE., Washington, DC 20593-7213”.

PART 6—WAIVERS OF NAVIGATION AND VESSEL INSPECTION LAWS AND REGULATIONS ¹

¹ This is also codified in 33 CFR part 19.

18. The authority citation for part 6 continues to read as follows:

Authority: Act Dec. 27, 1950, Ch. 1155, secs. 1, 2, 64 Stat. 1120 (see 46 U.S.C. App. note prec. 1); Department of Homeland Security Delegation No. 0170.1.

§ 6.06 [Amended]

19. In § 6.06(b), following the text “established, or to the”, remove the text “Commandant (CG-CVC), U.S. Coast Guard, 2100 2nd St. SW., Stop 7581, Washington, DC 20593-7581” and add, in its place, the text “Commandant (CG-CVC), Attn: Office of Commercial Vessel Compliance, U.S. Coast Guard Stop 7501, 2703 Martin Luther King Jr. Avenue SE., Washington, DC 20593-7501”.

PART 7—BOUNDARY LINES

20. The authority citation for the part 7 continues to read as follows:

Authority: 14 U.S.C. 633; 33 U.S.C. 151, 1222; Department of Homeland Security Delegation No. 0170.1.

§ 7.55 [Amended]

21. In § 7.55(b), following the text “75°31.9′ W.; thence to”, remove the text “Oregon Inlet Radiobeacon” and add, in its place, the text “Oregon Inlet Jetty Light”.

PART 8—VESSEL INSPECTION ALTERNATIVES

22. The authority citation for part 8 continues to read as follows:

Authority: 33 U.S.C. 1903, 1904, 3803 and 3821; 46 U.S.C. 3103, 3306, 3316, and 3703; Department of Homeland Security Delegation No. 0170.1 and Aug. 8, 2011 Delegation of Authority, Anti-Fouling Systems.

§ 8.110 [Amended]

23. In § 8.110(a), following the text “inspection at the”, remove the text “U.S. Coast Guard, Office of Design and Engineering Standards, (CG-ENG), 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”.

§ 8.440 [Amended]

24. In § 8.440(d)(3), following the text “society to the”, remove the text “Chief, Office of Commercial Vessel Compliance, Commandant (CG-CVC), U.S. Coast Guard, 2100 2nd St. SW., Stop 7581 Washington, DC 20593-7581” and add, in its place, the text “Commandant (CG-CVC), Attn: Office of Commercial Vessel Compliance, U.S. Coast Guard Stop 7501, 2703 Martin Luther King Jr. Avenue SE., Washington, DC 20593-7501”.

PART 10—MERCHANT MARINER CREDENTIAL

25. The authority citation for part 10 continues to read as follows:

Authority: 14 U.S.C. 633; 31 U.S.C. 9701; 46 U.S.C. 2101, 2103, 2110; 46 U.S.C. chapter 71; 46 U.S.C. chapter 72; 46 U.S.C. chapter 75; 46 U.S.C. 7701, 8906 and 70105; Executive Order 10173; Department of Homeland Security Delegation No. 0170.1.

§ 10.103 [Amended]

26. In § 10.103(a), following the text “inspection at the”, remove the text “Coast Guard, Marine Personnel Qualifications Division (CG-OES-1), 2100 2nd St. SW., Stop 7126, Washington, DC 20593-7126” and add, in its place, the text “Commandant (CG-OES-1), Attn: Marine Personnel Qualifications Division, U.S. Coast Guard Stop 7509, 2703 Martin Luther King Jr. Avenue SE., Washington, DC 20593-7509”.

PART 11—REQUIREMENTS FOR OFFICER ENDORSEMENTS

27. The authority citation for part 11 continues to read as follows:

Authority: 14 U.S.C. 633; 31 U.S.C. 9701; 46 U.S.C. 2101, 2103, and 2110; 46 U.S.C. chapter 71; 46 U.S.C. 7502, 7505, 7701, 8906, and 70105; Executive Order 10173; Department of Homeland Security Delegation No. 0170.1. Section 11.107 is also issued under the authority of 44 U.S.C. 3507.

§ 11.102 [Amended]

28. In § 11.102(a), following the text “inspection at the”, remove the text “Coast Guard, Marine Personnel Qualifications Division (CG-OES-1), 2100 2nd St. SW., Stop 7126, Washington, DC 20593-7126” and add, in its place, the text “Commandant (CG-OES-1), Attn: Marine Personnel Qualifications Division, U.S. Coast Guard Stop 7509, 2703 Martin Luther King Jr. Avenue SE., Washington, DC 20593-7509”.

PART 12—REQUIREMENTS FOR RATING ENDORSEMENTS

29. The authority citation for part 12 continues to read as follows:

Authority: 31 U.S.C. 9701; 46 U.S.C. 2101, 2103, 2110, 7301, 7302, 7503, 7505, 7701, and 70105; Department of Homeland Security Delegation No. 0170.1.

§ 12.01-3 [Amended]

30. In § 12.01-3(a), following the text “Also, it is available for inspection at the”, remove the text “Coast Guard, Marine Personnel Qualifications Division (CG-OES-1), 2100 2nd St. SW., Stop 7126, Washington, DC 20593-7126” and add, in its place, the text “Commandant (CG-OES-1), Attn: Marine Personnel Qualifications Division, U.S. Coast Guard Stop 7509, 2703 Martin Luther King Jr. Avenue SE., Washington, DC 20593-7509”.

PART 15—MANNING REQUIREMENTS

31. The authority citation for part 15 continues to read as follows:

Authority: 46 U.S.C. 2101, 2103, 3306, 3703, 8101, 8102, 8104, 8105, 8301, 8304, 8502, 8503, 8701, 8702, 8901, 8902, 8903, 8904, 8905(b), 8906, 9102, and 8103; and Department of Homeland Security Delegation No. 0170.1.

§ 15.105 [Amended]

32. In § 15.105(a) following the text “Also, it is available for inspection at the”, remove the text “Coast Guard, Office of Operating and Environmental Standards (CG-OES), 2100 2nd St. SW., Stop 7126, Washington, DC 20593-7126” and add, in its place, the text “Commandant (CG-OES-1), Attn: Marine Personnel Qualifications Division, U.S. Coast Guard Stop 7509, 2703 Martin Luther King Jr. Avenue SE., Washington, DC 20593-7509”.

PART 16—CHEMICAL TESTING

33. The authority citation for part 16 continues to read as follows:

Authority: 46 U.S.C. 2103, 3306, 7101, 7301, and 7701; Department of Homeland Security Delegation No. 0170.1.

§ 16.500 [Amended]

34. In 16.500(b), following the text “by mail to”, remove the text “Commandant (CG-INV), 2100 2nd St. SW., Stop 7581, Washington, DC 20593-7581” and add, in its place, the text “Commandant (CG-INV), Attn: Office of Investigations and Casualty Analysis, U.S. Coast Guard Stop 7501, 2703 Martin Luther King Jr. Avenue SE., Washington, DC 20593-7501”.

PART 25—REQUIREMENTS

35. The authority citation for part 25 continues to read as follows:

Authority: 33 U.S.C. 1903(b); 46 U.S.C. 3306, 4102, 4302; Department of Homeland Security Delegation No. 0170.1.

§ 25.01-3 [Amended]

36. In § 25.01-3(a), following the text “on file at the”, remove the text “U.S. Coast Guard, Office of Commercial Vessel Compliance (CG-CVC), 2100 2nd St. SW., Stop 7581, Washington, DC 20593-7581 or at” and add, in its place, the text “Coast Guard Headquarters. Contact Commandant (CG-CVC), Attn: Office of Commercial Vessel Compliance, U.S. Coast Guard Stop 7501, 2703 Martin Luther King Jr. Avenue SE., Washington, DC 20593-7501 or”.

PART 27—TOWING VESSELS

37. The authority citation for part 27 continues to read as follows:

Authority: 46 U.S.C. 3306, 4102 (as amended by Pub. L. 104-324, 110 Stat. 3901); Department of Homeland Security Delegation No. 0170.1.

38. In § 27.101, revise the definition of “Fixed fire-extinguishing system” to read as follows:

§ 27.101 Definitions.

* * * * *

Fixed fire-extinguishing system means:

(1) A carbon dioxide system that satisfies 46 CFR 76.15 and the system labeling requirements in 46 CFR 78.47-9 and 78.47-11 and that is approved by the Commandant; or

(2) A clean-agent system that satisfies 46 CFR 95.16 and is approved by the Commandant; or

(3) A manually-operated water-mist system that satisfies NFPA 750 (incorporated by reference; see § 27.102) and that is approved by the Commandant; or

* * * * *

§ 27.102 [Amended]

39. In § 27.102(a), following the text, “available at the”, remove the text “U.S. Coast Guard, Office of Design and Engineering Standards (CG-ENG), 2100 2nd Sreet SW., Stop 7126, Washington, DC 20593-7126, or” and add, in its place, the text “Coast Guard Headquarters. Contact Commandant (CG-ENG), Attn: Office of Design and Engineering Systems, U.S. Coast Guard Stop 7509, 2703 Martin Luther King Jr. Avenue SE., Washington, DC 20593-7509. The material is also available”.

PART 28—REQUIREMENTS FOR COMMERCIAL FISHING INDUSTRY VESSELS

40. The authority citation for part 28 continues to read as follows:

Authority: 46 U.S.C. 3316, 4502, 4505, 4506, 6104, 10603; Department of Homeland Security Delegation No. 0170.1.

§ 28.40 [Amended]

41. In § 28.40(a), following the text “on file at the”, remove the text “U.S. Coast Guard, Office of Design and Engineering Standards (CG-ENG), 2100 2nd St. SW., Stop 7126, Washington, DC 20593-7126 or at” and add, in its place, the text “Coast Guard Headquarters. Contact Commandant (CG-ENG), Attn: Office of Design and Engineering Systems, U.S. Coast Guard Stop 7509, 2703 Martin Luther King Jr. Avenue SE., Washington, DC 20593-7509 or you may contact”.

§ 28.50 [Amended]

42. In § 28.50, in the definition of “Coast Guard Representative” following the texts “industry vessels. Contact”, remove the text “Office of Vessel Activities, Fishing Vessels Division, Commandant (CG-CVC-3), U.S. Coast Guard, 2100 2nd St. SW., Stop 7581, Washington, DC 20593-7581” and add, in its place, the text “Commandant (CG-CVC-3); Attn: Fishing Vessels Division, U.S. Coast Guard Stop 7501, 2703 Martin Luther King Jr. Avenue SE., Washington, DC 20593-7501”.

PART 30—GENERAL PROVISIONS

43. The authority citation for part 30 continues to read as follows:

Authority: 46 U.S.C. 2103, 3306, 3703; Pub. L. 103-206, 107 Stat. 2439; 49 U.S.C. 5103, 5106; Department of Homeland Security Delegation No. 0170.1; Section 30.01-2 also issued under the authority of 44 U.S.C. 3507; Section 30.01-05 also issued under the authority of Sec. 4109, Pub. L. 101-380, 104 Stat. 515.

§ 30.01-3 [Amended]

44. In § 30.01-3(a) following the text, “Also, it is available for inspection at the”, remove the text “Coast Guard, Office of Design and Engineering Standards (CG-ENG), 2100 2nd St. SW., Stop 7126, Washington, DC 20593-7126, 202-372-1405” and add, in its place, the text “Commandant (CG-ENG), Attn: Office of Design and Engineering Systems, U.S. Coast Guard Stop 7509, 2703 Martin Luther King Jr. Avenue SE., Washington, DC 20593-7509; telephone 202-372-1405”.

§ 30.10-35 [Amended]

45. In § 30.10-35, remove the text “Office of the Commandant, U.S. Coast Guard, Washington, DC 20593-0001” and add, in its place, the text “Commandant (CG-CVC), Attn: Office of Commercial Vessel Compliance, U.S. Coast Guard Stop 7501, 2703 Martin Luther King Jr. Avenue SE., Washington, DC 20593-7501”.

§ 30.30-5 [Amended]

46. In § 30.30-5(a), following the text “should be sent to”, remove the text “Commandant (CG-CVC), 2100 2nd St. SW., Stop 7581, Washington, DC 20593-7581” and add, in its place, the text “Commandant (CG-CVC), Attn: Office of Commercial Vessel Compliance, U.S. Coast Guard Stop 7501, 2703 Martin Luther King Jr. Avenue SE., Washington, DC 20593-7501”.

47. Revise § 30.30-7 to read as follows:

§ 30.30-7 Availability of materials.

Evaluation materials submitted in accordance with this subpart will be available for inspection and copying at Coast Guard Headquarters. Contact Commandant (CG-CVC), Attn: Office of Commercial Vessel Compliance, U.S. Coast Guard Stop 7501, 2703 Martin Luther King Jr. Avenue SE., Washington, DC 20593-7501; telephone 202-372-1251.

PART 31—INSPECTION AND CERTIFICATION

48. The authority citation for part 31 continues to read as follows:

Authority: 33 U.S.C. 1321(j); 46 U.S.C. 2103, 3205, 3306, 3307, 3703; 46 U.S.C. Chapter 701; 49 U.S.C. 5103, 5106; E.O. 12234, 45 FR 58801, 3 CFR, 1980 Comp., p. 277; E.O. 12777, 56 FR 54757, 3 CFR, 1991 Comp., p. 351; Department of Homeland Security Delegation No. 0170.1. Section 31.10-21 also issued under the authority of Sect. 4109, Pub. L. 101-380, 104 Stat. 515.

§ 31.01-3 [Amended]

49. In § 31.01-3(b), following the text “is available from”, remove the text “Commandant (CG-ENG), 2100 2nd St. SW., Stop 7126, Washington, DC 20593-7126; telephone (202) 372-1372; or fax (202) 372-1925” and add, in its place, the text “Commandant (CG-ENG), Attn: Office of Design and Engineering Systems, U.S. Coast Guard Stop 7509, 2703 Martin Luther King Jr. Avenue SE., Washington, DC 20593-7509; telephone 202-372-1372 or fax 202-372-1925”.

§ 31.10-1 [Amended]

50. In § 31.10-1(b) following the text “These standards may”, remove the text “be also examined at the Office of the Commandant (CG-5PS), U.S. Coast Guard, 2100 2nd St. SW., Stop 7126, Washington, DC 20593-7126” and add, in its place, the text “also be examined at the Coast Guard Headquarters. Contact Commandant (CG-5PS), Attn: Director of Commercial Regulations and Standards, U.S. Coast Guard Stop 7509, 2703 Martin Luther King Jr. Avenue SE., Washington, DC 20593-7509”.

§ 31.10-5 [Amended]

51. In § 31.10-5(a), following the text “submission to the”, remove the text “Marine Safety Center, 2100 2nd St. SW., Stop 7102, Washington, DC 20593-7102” and add, in its place, the text “Commanding Officer (MSC), Attn: Marine Safety Center, U.S. Coast Guard Stop 7410, 4200 Wilson Boulevard Suite 400, Arlington, VA 20598-7410”.

PART 32—SPECIAL EQUIPMENT, MACHINERY, AND HULL REQUIREMENTS

52. The authority citation for part 32 continues to read as follows:

Authority: 46 U.S.C. 2103, 3306, 3703, 3719; E.O. 12234, 45 FR 58801, 3 CFR, 1980 Comp., p. 277; Department of Homeland Security Delegation No. 0170.1; Subpart 32.59 also issued under the authority of Sec. 4109, Pub. L. 101-380, 104 Stat. 515.

§ 32.01-1 [Amended]

53. In § 32.01-1(a), following the text “on file at the”, remove the text “U.S. Coast Guard, Office of Design and Engineering Standards (CG-ENG), 2100 2nd St. SW., Stop 7126, Washington, DC 20593-7126 or” and add, in its place, the text “Coast Guard Headquarters. Contact Commandant (CG-ENG), Attn: Office of Design and Engineering Systems, U.S. Coast Guard Stop 7509, 2703 Martin Luther King Jr. Avenue SE., Washington, DC 20593-7509. You may also inspect this material”.

§ 32.15-15 [Amended]

54. In § 32.15-15(e) following the text “be directed to the”, remove the text “Commandant (CG-5213), 2100 2nd St. SW., Stop 7126, Washington, DC 20593-7126; telephone (202) 372-1378 or fax (202) 372-1925” and add, in its place, the text “Commandant (CG-ENG-3), Attn: Systems Engineering Division, U.S. Coast Guard Stop 7509, 2703 Martin Luther King Jr. Avenue SE., Washington, DC 20593-7509; telephone 202-372-1378 or fax 202-372-1925”.

§ 32.53-3 [Amended]

55. In § 32.53-3(b), remove the text “Commandant (CG-OES), U.S. Coast Guard, 2100 2nd St. SW., Stop 7126, Washington, DC 20593-7126” and add, in its place, the text “Commandant (CG-OES), Attn: Office of Operating and Environmental Standards, U.S. Coast Guard Stop 7509, 2703 Martin Luther King Jr. Avenue SE., Washington, DC 20593-7509”.

PART 34—FIREFIGHTING EQUIPMENT

56. The authority citation for part 34 continues to read as follows:

Authority: 46 U.S.C. 3306, 3703; E.O. 12234, 45 FR 58801, 3 CFR, 1980 Comp., p. 277; Department of Homeland Security Delegation No. 0170.1.

§ 34.01-15 [Amended]

57. In § 34.01-15(a) following the text “Also, it is available for inspection at the”, remove the text “Coast Guard, Office of Design and Engineering Standards (CG-ENG), 2100 2nd St. SW., Stop 7126, Washington, DC 20593-7126” and add, in its place, the text “Coast Guard Headquarters. Contact Commandant (CG-ENG), Attn: Office of Design and Engineering Systems, U.S. Coast Guard Stop 7509, 2703 Martin Luther King Jr. Avenue SE., Washington, DC 20593-7509”.

PART 35—OPERATIONS

58. The authority citation for part 35 continues to read as follows:

Authority: 33 U.S.C. 1321(j); 46 U.S.C. 3306, 3703, 6101; 49 U.S.C. 5103, 5106; E.O. 12234, 45 FR 58801, 3 CFR, 1980 Comp., p. 277; E.O. 12777, 56 FR 54757, 3 CFR, 1991 Comp., p. 351; Department of Homeland Security Delegation No. 0170.1.

§ 35.01-3 [Amended]

59. In § 35.01-3 following the text “on file at the”, remove the text “U.S. Coast Guard, Office of Operating and Environmental Standards, (CG-OES), 2100 2nd St. SW., Stop 7126, Washington, DC 20593-7126” and add, in its place, the text “Coast Guard Headquarters. Contact Commandant (CG-OES), Attn: Office of Operating and Environmental Standards, U.S. Coast Guard Stop 7509, 2703 Martin Luther King Jr. Avenue SE., Washington, DC 20593-7509”.

PART 39—VAPOR CONTROL SYSTEMS

60. The authority citation for part 39 is revised to read as follows:

Authority: 33 U.S.C. 1225, 1231; 42 U.S.C. 7511b(f)(2); 46 U.S.C. 3306, 3703, 3715(b); E.O. 12234, 45 FR 58801, 3 CFR, 1980 Comp., p. 277; Department of Homeland Security Delegation No. 0170.1.

§ 39.1003 [Amended]

61. In § 39.1003 in the definition of “Marine Safety Center (MSC)”, remove the text “the Commanding Officer, U.S. Coast Guard Marine Safety Center, 2100 2nd Street SW., Stop 7102, Washington, DC 20593-7102” and add, in its place, the text “Commanding Officer, Marine Safety Center, U.S. Coast Guard, 4200 Wilson Boulevard Suite 400, Arlington, VA 22203 for visitors. Send all mail to Commanding Officer (MSC), Attn: Marine Safety Center, U.S. Coast Guard Stop 7410, 4200 Wilson Boulevard Suite 400, Arlington, VA 20598-7410”.

§ 39.1005 [Amended]

62. In § 39.1005(a) following the text “on file at the”, remove the text “U.S. Coast Guard, Office of Design and Engineering Standards (CG-ENG), 2100 2nd St. SW., Stop 7126, Washington, DC 20593-7126” and add, in its place, the text “Coast Guard Headquarters. Commandant (CG-ENG), Attn: Office of Design and Engineering Standards, U.S. Coast Guard Stop 7509, 2703 Martin Luther King Jr. Avenue SE., Washington, DC 20593-7509”.

PART 42—DOMESTIC AND FOREIGN VOYAGES BY SEA

63. The authority citation for part 42 continues to read as follows:

Authority: 46 U.S.C. 5101-5116; Department of Homeland Security Delegation No. 0170.1; section 42.01-5 also issued under the authority of 44 U.S.C. 3507.

§ 42.05-20 [Amended]

64. In § 42.05-20, remove the text “Commandant, U.S. Coast Guard, Washington, DC 20593-0001” and add, in its place, the text “Commandant (CG-ENG), Attn: Office of Design and Engineering Systems, U.S. Coast Guard Stop 7509, 2703 Martin Luther King Jr. Avenue SE., Washington, DC 20593-7509”.

PART 44—SPECIAL SERVICE LIMITED DOMESTIC VOYAGES

65. The authority citation for part 44 continues to read as follows:

Authority: 46 U.S.C. 5101-5116; Department of Homeland Security Delegation No. 0170.1.

66. Revise § 44.320(a) to read as follows:

§ 44.320 Submission of plans and calculations.

* * * * *

(a) Commanding Officer, Marine Safety Center, U.S. Coast Guard, 4200 Wilson Boulevard Suite 400, Arlington, VA 22203 for visitors. Send all mail to Commanding Officer (MSC), Attn: Marine Safety Center, U.S. Coast Guard Stop 7410, 4200 Wilson Boulevard Suite 400, Arlington, VA 20598-7410; or.

* * * * *

PART 46—SUBDIVISION LOAD LINES FOR PASSENGER VESSELS

67. The authority citation for part 46 continues to read as follows:

Authority: 46 U.S.C. 3306; 46 U.S.C. 5101-5116; E.O. 12234, 3 CFR, 1980 Comp., p. 277; Department of Homeland Security Delegation No. 0170.1.

§ 46.10-20 [Amended]

68. In § 46.10-20, remove the text “Commandant, U.S. Coast Guard, Washington, DC 20593-0001” and add, in its place, the text “Commandant (CG-ENG), Attn: Office of Design and Engineering Systems, U.S. Coast Guard Stop 7509, 2703 Martin Luther King Jr. Avenue SE., Washington, DC 20593-7509”.

PART 50—GENERAL PROVISIONS

69. The authority citation for part 50 continues to read as follows:

Authority: 43 U.S.C. 1333; 46 U.S.C. 3306, 3703; E.O. 12234, 45 FR 58801, 3 CFR, 1980 Comp., p. 277; Department of Homeland Security Delegation No. 0170.1; Section 50.01-20 also issued under the authority of 44 U.S.C. 3507.

§ 50.10-20 [Amended]

70. In § 50.10-20, remove the text “Office of the Commandant, U.S. Coast Guard, Washington, DC 20593-0001” and add, in its place, the text “Commandant (CG-00), Attn: Commandant, U.S. Coast Guard Stop 7000, 2703 Martin Luther King Jr. Avenue SE., Washington, DC 20593-7000”.

§ 50.10-23 [Amended]

71. In § 50.10-23, remove the text “Commanding Officer, U.S. Coast Guard Marine Safety Center, 1900 Half Street SW., Suite 1000, Room 525, Washington, DC 20024 for visitors. Send all mail to Commanding Officer, U.S. Coast Guard Marine Safety Center, 2100 2nd St. SW., Stop 7102, Washington, DC 20593-7102” and add, in its place, the text “Commanding Officer, Marine Safety Center, U.S. Coast Guard, 4200 Wilson Boulevard, Suite 400, Arlington, VA 22203 for visitors. Send all mail to Commanding Officer (MSC), Attn: Marine Safety Center, U.S. Coast Guard Stop 7410, 4200 Wilson Boulevard, Suite 400, Arlington, VA 20598-7410”.

PART 52—POWER BOILERS

72. The authority citation for part 52 continues to read as follows:

Authority: 46 U.S.C. 3306, 3307, 3703; E.O. 12234, 45 FR 58801, 3 CFR, 1980 Comp., p. 277; Department of Homeland Security Delegation No. 0170.1.

§ 52.01-1 [Amended]

73. In § 52.01-1(a), following the text “is also available for inspection at the”, remove the text “U.S. Coast Guard, Office of Design and Engineering Standards (CG-ENG), 2100 2nd St. SW., Stop 7126, Washington, DC 20593-7126, and is available from the sources listed below” and add, in its place, the text “Coast Guard Headquarters. Contact Commandant (CG-ENG), Attn: Office of Design and Engineering Systems, U.S. Coast Guard Stop 7509, 2703 Martin Luther King Jr. Avenue SE., Washington, DC 20593-7509. The material is also available from the sources listed in paragraph (b) of this section”.

PART 53—HEATING BOILERS

74. The authority citation for part 53 continues to read as follows:

Authority: 46 U.S.C. 3306, 3703; E.O. 12234, 45 FR 58801, 3 CFR, 1980 Comp., p. 277; Department of Homeland Security Delegation No. 0170.1.

§ 53.01-1 [Amended]

75. In § 53.01-1(a), remove the text “U.S. Coast Guard, Office of Design and Engineering Standards (CG-ENG), 2100 2nd St. SW., Stop 7126, Washington, DC 20593-7126, and is available from” and add, in its place, the text “Coast Guard Headquarters. Contact Commandant (CG-ENG), Attn: Office of Design and Engineering Systems, U.S. Coast Guard Stop 7509, 2703 Martin Luther King Jr. Avenue SE., Washington, DC 20593-7509. You may also inspect this material at”.

PART 54—PRESSURE VESSELS

76. The authority citation for part 54 continues to read as follows:

Authority: 33 U.S.C. 1509; 43 U.S.C. 1333; 46 U.S.C. 3306, 3703; E.O. 12234, 45 FR 58801, 3 CFR, 1980 Comp., p. 277; Department of Homeland Security Delegation No. 0170.1.

§ 54.01-1 [Amended]

77. In § 54.01-1(a), remove the text “U.S. Coast Guard, Office of Design and Engineering Standards (CG-ENG), 2100 2nd St. SW., Stop 7126, Washington, DC 20593-7126, and is” and add, in its place, the text “Coast Guard Headquarters. Contact Commandant (CG-ENG), Attn: Office of Design and Engineering Systems, U.S. Coast Guard Stop 7509, 2703 Martin Luther King Jr. Avenue SE., Washington, DC 20593-7509. The material is also”.

§ 54.05-30 [Amended]

78. In § 54.05-30(b), remove the text “U.S. Coast Guard, Office of Design and Engineering Standards (CG-ENG), 2100 2nd St. SW., Stop 7126, Washington, DC 20593-7126. .” and add, in its place, the text “Commandant (CG-ENG), Attn: Office of Design and Engineering Systems, U.S. Coast Guard Stop 7509, 2703 Martin Luther King Jr. Avenue SE., Washington, DC 20593-7509”.

PART 56—PIPING SYSTEMS AND APPURTENANCES

79. The authority citation for part 56 continues to read as follows:

Authority: 33 U.S.C. 1321(j), 1509; 43 U.S.C. 1333; 46 U.S.C. 3306, 3703; E.O. 12234, 45 FR 58801, 3 CFR, 1980 Comp., p. 277; E.O. 12777, 56 FR 54757, 3 CFR, 1991 Comp., p. 351; Department of Homeland Security Delegation No. 0170.1.

§ 56.01-2 [Amended]

80. In § 56.01-2(a), remove the text “U.S. Coast Guard, Office of Design and Engineering Standards (CG-ENG), 2100 2nd St. SW., Stop 7126, Washington, DC 20593-7126, and is” and add, in its place, the text “Coast Guard Headquarters. Contact Commandant (CG-ENG), Attn: Office of Design and Engineering Systems, U.S. Coast Guard Stop 7509, 2703 Martin Luther King Jr. Avenue SE., Washington, DC 20593-7509. The material is also”.

PART 57—WELDING AND BRAZING

81. The authority citation for part 57 continues to read as follows:

Authority: 46 U.S.C. 3306, 3703, E.O. 12234, 45 FR 58801, 3 CFR, 1980 Comp., p. 277; 49 CFR 1.46.

§ 57.02-1 [Amended]

82. In § 57.02-1(a), remove the text “U.S. Coast Guard, Office of Design and Engineering Standards (CG-ENG), 2100 2nd St. SW., Stop 7126, Washington, DC 20593-7126 and is” and add, in its place, the text “Coast Guard Headquarters. Contact Commandant (CG-ENG), Attn: Office of Design and Engineering Systems, U.S. Coast Guard Stop 7509, 2703 Martin Luther King Jr. Avenue SE., Washington, DC 20593-7509. The material is also”.

PART 58—MAIN AND AUXILIARY MACHINERY AND RELATED SYSTEMS

83. The authority citation for part 58 continues to read as follows:

Authority: 43 U.S.C. 1333; 46 U.S.C. 3306, 3703; E.O. 12234, 45 FR 58801, 3 CFR, 1980 Comp., p. 277; Department of Homeland Security Delegation No. 0170.1.

§ 58.03-1 [Amended]

84. In § 58.03-1(a), remove the text “U.S. Coast Guard, Office of Design and Engineering Standards (CG-ENG), 2100 2nd St. SW., Stop 7126, Washington, DC 20593-7126, and is” and add, in its place, the text “Coast Guard Headquarters. Contact Commandant (CG-ENG), Attn: Office of Design and Engineering Systems, U.S. Coast Guard Stop 7509, 2703 Martin Luther King Jr. Avenue SE., Washington, DC 20593-7509. The material is also”.

PART 59—REPAIRS TO BOILERS, PRESSURE VESSELS AND APPURTENANCES

85. The authority citation for part 59 continues to read as follows:

Authority: 46 U.S.C. 3306, 3703; E.O. 12234, 45 FR 58801, 3 CFR, 1980 Comp., p. 227; Department of Homeland Security Delegation No. 0170.1.

§ 59.01-2 [Amended]

86. In § 59.01-2(a), remove the text “U.S. Coast Guard, Office of Design and Engineering Standards (CG-ENG), 2100 2nd St. SW., Stop 7126, Washington, DC 20593-7126, and is” and add, in its place, the text “Coast Guard Headquarters. Contact Commandant (CG-ENG), Attn: Office of Design and Engineering Systems, U.S. Coast Guard Stop 7509, 2703 Martin Luther King Jr. Avenue SE., Washington, DC 20593-7509. The material is also”.

PART 61—PERIODIC TESTS AND INSPECTIONS

87. The authority citation for part 61 continues to read as follows:

Authority: 43 U.S.C. 1333; 46 U.S.C. 2103, 3306, 3307, 3703; E.O. 12234, 45 FR 58801, 3 CFR 1980 Comp., p. 277; Department of Homeland Security Delegation No. 0170.1.

§ 61.03-1 [Amended]

88. In § 61.03-1(a), remove the text “U.S. Coast Guard, Office of Design and Engineering Standards (CG-ENG), 2100 2nd St. SW., Stop 7126, Washington, DC 20593-7126 and is” and add, in its place, the text “Coast Guard Headquarters. Contact Commandant (CG-ENG), Attn: Office of Design and Engineering Systems, U.S. Coast Guard Stop 7509, 2703 Martin Luther King Jr. Avenue SE., Washington, DC 20593-7509. The material is also”.

PART 62—VITAL SYSTEM AUTOMATION

89. The authority citation for part 62 continues to read as follows:

Authority: 46 U.S.C. 3306, 3703, 8105; E.O. 12234, 45 FR 58801, 3 CFR, 1980 Comp., p. 277; Department of Homeland Security Delegation No. 0170.1.

§ 62.05-1 [Amended]

90. In § 62.05-1(a), remove the text “U.S. Coast Guard, Office of Design and Engineering Standards (CG-ENG), 2100 2nd St. SW., Stop 7126, Washington, DC 20593-7126, and is available from the sources listed below” and add, in its place, the text “Coast Guard Headquarters. Contact Commandant (CG-ENG), Attn: Office of Design and Engineering Systems, U.S. Coast Guard Stop 7509, 2703 Martin Luther King Jr. Avenue SE., Washington, DC 20593-7509. The material is also from the sources in paragraph (b) of this section”.

PART 63—AUTOMATIC AUXILIARY BOILERS

91. The authority citation for part 63 continues to read as follows:

Authority: 46 U.S.C. 3306, 3703; E.O. 12234, 45 FR 58801, 3 CFR, 1980 Comp., p. 277; Department of Homeland Security Delegation No. 0170.1.

§ 63.05-1 [Amended]

92. In § 63.05-1(a), remove the text “U.S. Coast Guard, Office of Design and Engineering Standards (CG-ENG), 2100 2nd Street SW., Stop 7126, Washington, DC 20593-7126, and is available from the sources listed below” and add, in its place, the text “Coast Guard Headquarters. Contact Commandant (CG-ENG), Attn: Office of Design and Engineering Systems, U.S. Coast Guard Stop 7509, 2703 Martin Luther King Jr. Avenue SE., Washington, DC 20593-7509. The material is also available from the sources listed in paragraphs (b) through (g) of this section”.

93. In § 63.10-1, revise the introductory text to read as follows:

§ 63.10-1 Test procedures and certification report.

Two copies of the following items must be submitted. Visitors may deliver them to the Commanding Officer, Marine Safety Center, U.S. Coast Guard, 4200 Wilson Boulevard Suite 400, Arlington, VA 22203, or they may be transmitted by mail to the Commanding Officer (MSC), Attn: Marine Safety Center, U.S. Coast Guard Stop 7410, 4200 Wilson Boulevard Suite 400, Arlington, VA 20598-7410, in a written or electronic format. Information for submitting the VSP electronically can be found at http://www.uscg.mil/HQ/MSC.

* * * * *

§ 63.25-9 [Amended]

94. In § 63.25-9(a), remove the text “Commanding Officer (MSC), USCG Marine Safety Center, 2100 2nd St. SW., Stop 7102, Washington, DC 20593-7102” and add, in its place, the text “Commanding Officer, Marine Safety Center, U.S. Coast Guard, 4200 Wilson Boulevard Suite 400, Arlington, VA 22203, or they may be transmitted by mail to the Commanding Officer (MSC), Attn: Marine Safety Center, U.S. Coast Guard Stop 7410, 4200 Wilson Boulevard Suite 400, Arlington, VA 20598-7410”

PART 64—MARINE PORTABLE TANKS AND CARGO HANDLING SYSTEMS

95. The authority citation for part 64 continues to read as follows:

Authority: 46 U.S.C. 3306, 3703; 49 U.S.C. App. 1804; Department of Homeland Security Delegation No. 0170.1.

§ 64.2 [Amended]

96. In § 64.2(a), remove the text “the U.S. Coast Guard, Deputy for Operations Policy and Capabilities (CG-DCO-D), U.S. Coast Guard, 2100 2nd Street SW., Stop 7355, Washington, DC 20593-7355, and is” and add, in its place, the text “Coast Guard Headquarters. Contact Commandant (CG-DCO-D), Attn: Deputy for Operations Policy and Capabilities, U.S. Coast Guard Stop 7318, 2703 Martin Luther King Jr. Avenue SE., Washington, DC 20593-7318. The material is also”.

PART 69—MEASUREMENT OF VESSELS

97. The authority citation for part 69 continues to read as follows:

Authority: 46 U.S.C. 2301, 14103; Department of Homeland Security Delegation No. 0170.1.

98. In § 69.9, revise the definition of “Commandant” to read as follows:

§ 69.9 Definitions.

* * * * *

Commandant means Commandant of the Coast Guard at the following addresses: Commanding Officer, Marine Safety Center, U.S. Coast Guard, 4200 Wilson Boulevard Suite 400, Arlington, VA 22203 for visitors. Send all mail to Commanding Officer (MSC), Attn: Marine Safety Center, U.S. Coast Guard Stop 7410, 4200 Wilson Boulevard Suite 400, Arlington, VA 20598-7410, in a written or electronic format. Information for submitting the VSP electronically can be found at http://www.uscg.mil/HQ/MSC.

* * * * *

§ 69.15 [Amended]

99. In § 69.15(a) following the text “by visitors from the”, remove the text “Commanding Officer, U.S. Coast Guard Marine Safety Center, 1900 Half Street SW., Suite 1000, Room 525, Washington, DC 20024, or by writing to: Commanding Officer, U.S. Coast Guard Marine Safety Center, 2100 2nd St. SW., Stop 7102, Washington, DC 20593-7102” and add, in its place, the text “Commanding Officer, Marine Safety Center, U.S. Coast Guard, 4200 Wilson Boulevard Suite 400, Arlington, VA 22203 or by writing to Commanding Officer (MSC), Attn: Marine Safety Center, U.S. Coast Guard Stop 7410, 4200 Wilson Boulevard Suite 400, Arlington, VA 20598-7410”.

PART 70—GENERAL PROVISIONS

100. The authority citation for part 70 continues to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1; Section 70.01-15 also issued under the authority of 44 U.S.C. 3507.

101. In § 70.10-1, revise the definition of “Headquarters” to read as follows:

§ 70.10-1 Definitions.

* * * * *

Headquarters means the Commandant (CG-ENG), Attn: Office of Design and Engineering Systems, U.S. Coast Guard Stop 7509, 2703 Martin Luther King Jr. Avenue SE., Washington, DC 20593-7509.

* * * * *

§ 70.35-5 [Amended]

102. In § 70.35-5(a), following the text “These standards may”, remove the text “be also examined at the Office of the Commandant (CG-5PS), 2100 2nd St. SW., Stop 7126, Washington, DC 20593-7126, or at” and add, in its place, the text “also be examined at Coast Guard Headquarters. Contact Commandant (CG-5PS), Attn: Director of Commercial Regulations, U.S. Coast Guard Stop 7509, 2703 Martin Luther King Jr. Avenue SE., Washington, DC 20593-7509, or contact”.

PART 71—INSPECTION AND CERTIFICATION

103. The authority citation for part 71 continues to read as follows:

Authority: 33 U.S.C. 1321(j); 46 U.S.C. 2113, 3205, 3306, 3307; E.O. 12234, 45 FR 58801, 3 CFR, 1980 Comp., p. 277; E.O. 12777, 56 FR 54757, 3 CFR, 1991 Comp., p. 351; Department of Homeland Security Delegation No. 0170.1.

§ 71.15-5 [Amended]

104. In § 71.15-5(b), following the text “supplements, is available”, remove the text “from Commandant (CG-ENG), 2100 2nd St. SW., Stop 7126, Washington, DC 20593-7126; telephone (202) 372-1372; or fax (202) 372-1925” and add, in its place, the text “at Coast Guard Headquarters. Contact Commandant (CG-ENG), Attn: Office of Design and Engineering Systems, U.S. Coast Guard Stop 7509, 2703 Martin Luther King Jr. Avenue SE., Washington, DC 20593-7509; telephone 202-372-1372 or fax 202-372-1925”.

§ 71.65-15 [Amended]

105. In § 71.65-15(a)(2), remove the text “Commanding Officer, U.S. Coast Guard Marine Safety Center, 1900 Half Street SW., Suite 1000, Room 525, Washington, DC 20024, or transmitted by mail to: Commanding Officer, U.S. Coast Guard Marine Safety Center, 2100 2nd St. SW., Stop 7102, Washington, DC 20593-7102” and add, in its place, the text “the Commanding Officer, Marine Safety Center, U.S. Coast Guard, 4200 Wilson Boulevard Suite 400, Arlington, VA 22203, or transmitted by mail to: Commanding Officer (MSC), Attn: Marine Safety Center, U.S. Coast Guard Stop 7410, 4200 Wilson Boulevard Suite 400, Arlington, VA 20598-7410”.

PART 76—FIRE PROTECTION EQUIPMENT

106. The authority citation for part 76 continues to read as follows:

Authority: 46 U.S.C. 3306; E.O. 12234, 45 FR 58801, 3 CFR, 1980 Comp., p. 277; Department of Homeland Security Delegation No. 0170.1.

§ 76.01-2 [Amended]

107. In § 76.01-2(a), remove the text “the U.S. Coast Guard, Office of Design and Engineering Standards (CG-ENG), 2100 2nd St. SW., Stop 7126, Washington, DC 20593-7126, and is available from the sources listed below” and add, in its place, the text “Coast Guard Headquarters. Contact Commandant (CG-ENG), Attn: Office of Design and Engineering Systems, U.S. Coast Guard Stop 7509, 2703 Martin Luther King Jr. Avenue SE., Washington, DC 20593-7509. The material is also available from the sources listed in paragraphs (b) through (d) of this section”.

PART 77—VESSEL CONTROL AND MISCELLANEOUS SYSTEMS AND EQUIPMENT

108. The authority citation for part 77 continues to read as follows:

Authority: 46 U.S.C. 3306; E.O. 12234, 45 FR 58801, 3 CFR, 1980 Comp., p. 277; Department of Homeland Security Delegation No. 0170.1.

§ 77.01-3 [Amended]

109. In § 77.01-3(a), remove the text “the U.S. Coast Guard, Office of Design and Engineering Standards (CG-ENG), 2100 2nd St. SW., Stop 7126, Washington, DC 20593-7126, and is” and add, in its place, the text “Coast Guard Headquarters. Contact Commandant (CG-ENG), Attn: Office of Design and Engineering Systems, U.S. Coast Guard Stop 7509, 2703 Martin Luther King Jr. Avenue SE., Washington, DC 20593-7509. The material is also”.

PART 78—OPERATIONS

110. The authority citation for part 78 continues to read as follows:

Authority: 33 U.S.C. 1321(j); 46 U.S.C. 2103, 3306, 6101; 49 U.S.C. 5103, 5106; E.O. 12234, 45 FR 58801, 3 CFR, 1980 Comp., p. 277; E.O. 12777, 56 FR 54757, 3 CFR, 1991 Comp., p. 351; Department of Homeland Security Delegation No. 0170.1.

§ 78.01-2 [Amended]

111. In § 78.01-2(a), remove the text “the U.S. Coast Guard, Lifesaving and Fire Safety Division (CG-ENG-4), 2100 2nd St. SW., Stop 7126, Washington, DC 20593-7126, and is” and add, in its place, the text “Coast Guard Headquarters. Contact Commandant (CG-ENG-4), Attn: Lifesaving and Fire Safety Division, U.S. Coast Guard Stop 7509, 2703 Martin Luther King Jr. Avenue SE., Washington, DC 20593-7509. The material is also”.

PART 90—GENERAL PROVISIONS

112. The authority citation for part 90 continues to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1.

§ 90.10-14 [Amended]

113. In § 90.10-14, remove the text “Office of the Commandant, U.S. Coast Guard, Washington, DC 20593-0001” and add, in its place, the text “Commandant (CG-00), Attn: Commandant, U.S. Coast Guard Stop 7000, 2703 Martin Luther King Jr. Avenue SE., Washington, DC 20593-7000”.

§ 90.35-5 [Amended]

114. In § 90.35-5, following the text “These standards may”, remove the text “be also examined at the Office of the Commandant (CG-5PS), 2100 2nd St. SW., Stop 7126, Washington, DC 20593-7126, or” and add, in its place, the text “also be examined at Coast Guard Headquarters. Contact Commandant (CG-5PS), Attn: Director of Commercial Regulations, U.S. Coast Guard Stop 7509, 2703 Martin Luther King Jr. Avenue SE., Washington, DC 20593-7509. The standards are also available”.

PART 91—INSPECTION AND CERTIFICATION

115. The authority citation for part 91 continues to read as follows:

Authority: 33 U.S.C. 1321(j); 46 U.S.C. 3205, 3306, 3307; 46 U.S.C. Chapter 701; Executive Order 12234; 45 FR 58801; 3 CFR, 1980 Comp., p. 277; Executive Order 12777, 56 FR 54757, 3 CFR, 1991 Comp., p. 351; Department of Homeland Security Delegation No. 0170.1.

§ 91.15-5 [Amended]

116. In § 91.15-5(b), following the text “is available from” remove the text “Commandant (CG-ENG), 2100 2nd St. SW., Stop 7126, Washington, DC 20593-7126; telephone (202) 372-1372; or fax (202) 372-1925” and add, in its place, the text “at Coast Guard Headquarters. Contact Commandant (CG-ENG), Attn: Office of Design and Engineering Systems, U.S. Coast Guard Stop 7509, 2703 Martin Luther King Jr. Avenue SE., Washington, DC 20593-7509; telephone 202-372-1372 or fax 202-372-1925”.

§ 91.55-15 [Amended]

117. In § 91.55-15(a)(2), remove the text “Commandant (CG-ENG), U.S. Coast Guard, 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”.

PART 92—CONSTRUCTION AND ARRANGEMENT

118. The authority citation for part 92 continues to read as follows:

Authority: 46 U.S.C. 3306; E.0. 12234, 45 FR 58801, 3 CFR, 1980 Comp., p. 277; Department of Homeland Security Delegation No. 0170.1.

§ 92.01-2 [Amended]

119. In § 92.01-2(a), remove the text “the Coast Guard, Office of Design and Engineering Standards, (CG-ENG), 2100 2nd St. SW., Stop 7126, Washington, DC 20593-7126, and is available from the sources listed below” and add, in its place, the text “Coast Guard Headquarters. Contact Commandant (CG-ENG), Attn: Office of Design and Engineering Systems, U.S. Coast Guard Stop 7509, 2703 Martin Luther King Jr. Avenue SE., Washington, DC 20593-7509. The material is also from the source listed in paragraph (b) of this section”.

PART 95—FIRE PROTECTION EQUIPMENT

120. The authority citation for part 95 continues to read as follows:

Authority: 46 U.S.C. 3306; E.O. 12234, 45 FR 58801, 3 CFR, 1980 Comp., p. 277; Department of Homeland Security Delegation No. 0170.1.

§ 95.01-2 [Amended]

121. In § 95.01-2(a), remove the text “the Coast Guard, Office of Design and Engineering Standards (CG-ENG), 2100 2nd St. SW., Stop 7126, Washington, DC 20593-7126, 202-372-1405, and is available from the sources listed below” and add, in its place, the text “Coast Guard Headquarters. Contact Commandant (CG-ENG), Attn: Office of Design and Engineering Systems, U.S. Coast Guard Stop 7509, 2703 Martin Luther King Jr. Avenue SE., Washington, DC 20593-7509”; telephone 202-372-1405. The material is also available from the sources listed in paragraphs (b) and (c) of this section”.

PART 96—VESSEL CONTROL AND MISCELLANEOUS SYSTEMS AND EQUIPMENT

122. The authority citation for part 96 continues to read as follows:

Authority: 46 U.S.C. 3306; E.O. 12234, 45 FR 58801, 3 CFR, 1980 Comp., p. 277; Department of Homeland Security Delegation No. 0170.1.

§ 96.01-3 [Amended]

123. In § 96.01-3(a), remove the text “U.S. Coast Guard, Office of Design and Engineering Standards (CG-ENG), 2100 2nd St. SW., Stop 7126, Washington, DC 20593-7126, and is” and add, in its place, the text “Coast Guard Headquarters. Contact Commandant (CG-ENG), Attn: Office of Design and Engineering Systems, U.S. Coast Guard Stop 7509, 2703 Martin Luther King Jr. Avenue SE., Washington, DC 20593-7509. The material is also”.

PART 97—OPERATIONS

124. The authority citation for part 97 continues to read as follows:

Authority: 33 U.S.C. 1321(j); 46 U.S.C. 2103, 3306, 5111, 6101; 49 U.S.C. 5103, 5106; E.O. 12234, 45 FR 58801, 3 CFR, 1980 Comp., p. 277; E.O. 12777, 56 FR 54757; 3 CFR, 1991 Comp., p. 351; Department of Homeland Security Delegation No. 0170.1.

§ 97.01-2 [Amended]

125. In § 97.01-2(a), remove the text “the U.S. Coast Guard, Lifesaving and Fire Safety Division (CG-ENG-4), 2100 2nd St. SW., Stop 7126, Washington, DC 20593-7126, or at” and add, in its place, the text “Coast Guard Headquarters. Contact Commandant (CG-ENG-4), Attn: Lifesaving and Fire Safety Division, U.S. Coast Guard Stop 7509, 2703 Martin Luther King Jr. Avenue SE., Washington, DC 20593-7509 or contact.”

PART 105—COMMERCIAL FISHING VESSELS DISPENSING PETROLEUM PRODUCTS

126. The authority citation for part 105 continues to read as follows:

Authority: 33 U.S.C. 1321(j); 46 U.S.C. 3306, 3703, 4502; 49 U.S.C. App. 1804; E.O. 11735, 38 FR 21243, 3 CFR, 1971-1975 Comp., p. 793; Department of Homeland Security Delegation No. 0170.1.

§ 105.01-3 [Amended]

127. In § 105.01-3(a), remove the text “the Coast Guard, Office of Design and Engineering Standards (CG-ENG), 2100 2nd St. SW., Stop 7126, Washington, DC 20593-7126, 202-372-1405, and is available from the sources listed below” and add, in its place, the text “Coast Guard Headquarters. Contact Commandant (CG-ENG), Attn: Office of Design and Engineering Systems, U.S. Coast Guard Stop 7509, 2703 Martin Luther King Jr. Avenue SE., Washington, DC 20593-7509; telephone 202-372-1405. The material is also available from the source listed in paragraph (b) of this section”.

PART 107—INSPECTION AND CERTIFICATION

128. The authority citation for part 107 continues to read as follows:

Authority: 43 U.S.C. 1333; 46 U.S.C. 3306, 3307; 46 U.S.C. 3316; Department of Homeland Security Delegation No. 0170.1; § 107.05 also issued under the authority of 44 U.S.C. 3507.

129. In § 107.111, revise the definition of “Headquarters” to read as follows:

§ 107.111 Definitions.

* * * * *

Headquarters means Commandant (CG-00), Attn: Commandant, U.S. Coast Guard Stop 7000, 2703 Martin Luther King Jr. Avenue SE., Washington, DC 20593-7000.

* * * * *

130. In § 107.117, revise paragraphs (a) and (b) to read as follows:

§ 107.117 Coast Guard addresses.

* * * * *

(a) For approval by Commandant (CG-CVC)—Attn: Office of Commercial Vessel Compliance, U.S. Coast Guard Stop 7501, 2703 Martin Luther King Jr. Avenue SE., Washington, DC 20593-7501.

(b) For approval by Commandant (CG-ENG)—Attn: Office of Design and Engineering Systems, U.S. Coast Guard Stop 7509, 2703 Martin Luther King Jr. Avenue SE., Washington, DC 20593-7509.

§ 107.205 [Amended]

131. In § 107.205(b), following the text “is available”, remove the text “from Commandant (CG-ENG), 2100 2nd St. SW., Stop 7126, Washington, DC 20593-7126; telephone (202) 372-1372; or fax (202) 372-1925” and add, in its place, the text “at Coast Guard Headquarters. Contact Commandant (CG-ENG), Attn: Office of Design and Engineering Systems, U.S. Coast Guard Stop 7509, 2703 Martin Luther King Jr. Avenue SE., Washington, DC 20593-7509; telephone 202-372-1372 or fax 202-372-1925”.

132. Revise § 107.317(b) to read as follows:

§ 107.317 Addresses for submittal of plans, specifications, and calculations.

* * * * *

(b) By visitors to the Commanding Officer, Marine Safety Center, U.S. Coast Guard, 4200 Wilson Boulevard Suite 400, Arlington, VA 22203, or by mail to: Commanding Officer (MSC), Attn: Marine Safety Center, U.S. Coast Guard Stop 7410, 4200 Wilson Boulevard Suite 400, Arlington, VA 20598-7410, in a written or electronic format. Information for submitting the VSP electronically can be found at http://www.uscg.mil/HQ/MSC.

* * * * *

PART 108—DESIGN AND EQUIPMENT

133. The authority citation for part 108 continues to read as follows:

Authority: 43 U.S.C. 1333; 46 U.S.C. 3102, 3306; Department of Homeland Security Delegation No. 0170.1.

§ 108.101 [Amended]

134. In § 108.101(a), following the text “on file at the”, remove the text “U.S. Coast Guard, Office of Design and Engineering Standards (CG-ENG), 2100 2nd St. SW., Stop 7126, Washington, DC 20593-7126 or” and add, in its place, the text “Coast Guard Headquarters. Contact Commandant (CG-ENG), Attn: Office of Design and Engineering Systems, U.S. Coast Guard Stop 7509, 2703 Martin Luther King Jr. Avenue SE., Washington, DC 20593-7509. The material is also available”.

PART 109—OPERATIONS

135. The authority citation for part 109 continues to read as follows:

Authority: 43 U.S.C. 1333; 46 U.S.C. 3306, 6101, 10104; Department of Homeland Security Delegation No. 0170.1.

§ 109.105 [Amended]

136. In § 109.105(a), following the text “on file at the”, remove the text “U.S. Coast Guard, Office of Design and Engineering Standards (CG-ENG), 2100 2nd St. SW., Stop 7126, Washington, DC 20593-7126 or” and add, in its place, the text “Coast Guard Headquarters. Contact Commandant (CG-ENG), Attn: Office of Design and Engineering Systems, U.S. Coast Guard Stop 7509, 2703 Martin Luther King Jr. Avenue SE., Washington, DC 20593-7509. The material is also available”.

PART 110—GENERAL PROVISIONS

137. The authority citation for part 110 continues to read as follows:

Authority: 33 U.S.C. 1509; 43 U.S.C 1333; 46 U.S.C. 3306, 3307, 3703; E.O. 12234, 45 FR 58801, 3 CFR, 1980 Comp., p. 277; Department of Homeland Security Delegation No. 0170.1; § 110.01-2 also issued under 44 U.S.C. 3507.

138. In § 110.10-1, revise paragraphs (a), (g)(1). (4), (10), (14), (16), (17), (18), (20), (21), (22), (24), (25), (27,), and (o)(10) to read as follows:

§ 110.10-1 Incorporation by reference.

(a) Certain material is incorporated by reference into this subchapter with the approval of the Director of the Federal Register under 5 U.S.C. 552(a) and 1 CFR part 51. To enforce any edition other than that specified in this section, the Coast Guard must publish notice of change in the Federal Register and the material must be available to the public. The word “should,” when used in material incorporated by reference, is to be construed the same as the words “must” or “shall” for the purposes of this subchapter. All approved material is available for inspection at the National Archives and Records Administration (NARA). For information on the availability of this material at NARA, call 202-741-6030 or go to http://www.archives.gov/federal_register/code_of_federal_regulations/ibr_locations.html. The material is also available for inspection at Coast Guard Headquarters. Contact Commandant (CG-ENG), Attn: Office of Design and Engineering Systems, U.S. Coast Guard Stop 7509, 2703 Martin Luther King Jr. Avenue SE., Washington, DC 20593-7509. The material is also available from the sources listed among the succeeding paragraphs of this section.

* * * * *

(g) * * *

(1) IEC 60068-2-52, Environmental Testing Part 2: Tests—Test Kb: Salt Mist, Cyclic (Sodium Chloride Solution), Second Edition (1996) (“IEC 60068-2-52”), 110.15-1;

* * * * *

(4) IEC 60332-1 Tests on Electric Cables Under Fire Conditions, Part 1: Test on a Single Vertical Insulated Wire or Cable, Third Edition (1993) (“IEC 60332-1”), 111.30-19;

* * * * *

(10) IEC 60079-6 Electrical Apparatus for Explosive Gas Atmospheres—Part 6: Oil Immersion “o”, Second Edition (1995) (“IEC 60079-6”), 111.105-1; 111.105-3; 111.105-5; 111.105-7; 111.105-15; 111.105-17;

* * * * *

(14) IEC 60079-18 Electrical Apparatus for Explosive Gas Atmospheres—Part 18: Encapsulation “m”, First Edition (1992) (“IEC 60079-18”), 111.105-1; 111.105-3; 111.105-5; 111.105-7; 111.105-15; 111.105-17;

* * * * *

(16) IEC 60092-201 Electrical Installation in Ships, Part 201: System Design-General, Fourth Edition (1994) (“IEC 60092-201”), 111.70-3; 111.81-1;

(17) IEC 60092-202 Amendment 1 Electrical Installation in Ships, Part 202: System Design-Protection (1996) (“IEC 60092-202”), 111.12-7; 111.50-3; 111.53-1; 111.54-1;

(18) IEC 60092-301 Amendment 2 Electrical Installation in Ships, Part 301: Equipment-Generators and Motors, (1995) (“IEC 60092-301”), 111.12-7; 111.25-5; 111.70-1;

* * * * *

(20) IEC 60092-303 Electrical Installation in Ships, Part 303: Equipment-Transformers for Power and Lighting, Third Edition (1980) (“IEC 60092-303”), 111.20-15;

(21) IEC 60092-304 Amendment 1 Electrical Installation in Ships, Part 304: Equipment-Semiconductor Convertors (1995) (“IEC 60092-304”), 111.33-3; 111.33-5;

(22) IEC 60092-306 Electrical Installation in Ships, Part 306: Equipment-Luminaries and accessories, Third Edition (1980) (“IEC 60092-306”), 111.75-20; 111.81-1;

* * * * *

(24) IEC 60092-353 Electrical Installations in Ships—Part 353: Single and Multicore Non-Radial Field Power Cables with Extruded Solid Insulation for Rated Voltages 1kV and 3kV, Second Edition (1995) (“IEC 60092-353”), 111.60-1; 111.60-3; 111.60-5;

(25) IEC 60092-401 Electrical Installations in Ships, Part 401: Installation and Test of completed Installation with amendment 1 (1987) and amendment 2 (1997), Third Edition (1980) (“IEC 60092-401”), 111.05-9; 111.81-1;

* * * * *

(27) IEC 60092-503 Electrical installations in ships, Part 503: Special features: A.C. supply systems with voltages in the range of above 1kV up to and including 11kV, First Edition (1975) (“IEC 60092-503”), 111.30-5;

* * * * *

(o) * * *

(10) UL 913, Standard for Intrinsically Safe Apparatus and Associated Apparatus for Use in Class I, II, and III, Division 1, Hazardous (Classified) Locations, Sixth Edition, Aug. 8, 2002 (Revisions through and including Dec. 15, 2003) (“UL 913”), 111.105-11;

* * * * *

139. In § 110.15-1, revise the definition of “Corrosion resistant material or finish” to read as follows:

§ 110.15-1 Definitions.

* * * * *

Corrosion resistant material or finish means any material or finish that meets the testing requirements of ASTM B 117 (incorporated by reference; see 46 CFR 110.10-1) or test Kb in IEC 60068-2-52.

* * * * *

§ 110.25-3 [Amended]

140. In § 110.25-3(a)(1), remove the text “Commanding Officer, U.S. Coast Guard Marine Safety Center, 1900 Half Street SW., Suite 1000, Room 525, Washington, DC 20024, or by mail to: Commanding Officer, U.S. Coast Guard Marine Safety Center, 2100 2nd St. SW., Stop 7102, Washington, DC 20593-7102” and add, in its place, the text “Commanding Officer, Marine Safety Center, U.S. Coast Guard, 4200 Wilson Boulevard Suite 400, Arlington, VA 22203, or by mail to: Commanding Officer (MSC), Attn: Marine Safety Center, U.S. Coast Guard Stop 7410, 4200 Wilson Boulevard Suite 400, Arlington, VA 20598-7410”.

PART 111—ELECTRIC SYSTEMS—GENERAL REQUIREMENTS

141. The authority citation for part 111 continues to read as follows:

Authority: 46 U.S.C. 3306, 3703; Department of Homeland Security Delegation No. 0170.1.

§ 111.05-9 [Amended]

142. In § 111.05-9, remove the text “IEC 92-401” and add, in its place, the text “IEC 60092-401”.

§ 111.12-7 [Amended]

143. In § 111.12-7(b), remove the text “IEC 92-202 and IEC 92-301” and add, in its place, the text “IEC 60092-202 and IEC 60092-301”.

§ 111.20-15 [Amended]

144. In § 111.20-15, remove the text “IEC 92-303” and add, in its place, the text “IEC 60092-303”.

§ 111.25-5 [Amended]

145. In § 111.25-5(a), remove the text “IEC 92-301” and add, in its place, “IEC 60092-301”.

§ 111.30-5 [Amended]

146. In § 111.30-5(a)(2), remove the text “IEC 92-503” and add, in its place, the text “IEC 60092-503”.

§ 111.30-19 [Amended]

147. In § 111.30-19(b)(4), remove the text “IEC 332-1” and add, in its place, the text “IEC 60332-1”.

§ 111.33-3 [Amended]

148. In § 111.33-3(a)(2), remove the text “IEC 92-304” and add, in its place, the text “IEC 60092-304”.

§ 111.33-5 [Amended]

149. In § 111.33-5(b), remove the text “IEC 92-304” and add, in its place, the text “IEC 60092-304”.

§ 111.50-3 [Amended]

150. In § 111.50-3(c), (e), and (g)(2), remove the text “IEC 92-202” and add, in its place, the text “IEC 60092-202”.

§ 111.53-1 [Amended]

151. In § 111.53-1(a)(1), remove the text “IEC 92-202” and add, in its place, the text “IEC 60092-202”.

§ 111.54-1 [Amended]

XX. In § 111.54-1(a)(1), remove the text “IEC 92-202” and add, in its place, the text “IEC 60092-202”.

§ 111.60-1 [Amended]

152. In § 111.60-1(a) and (b), remove the text “IEC 92-353” and add, in its place, the text “IEC 60092-353”.

§ 111.60-3 [Amended]

153. In § 111.60-3(a)(2), (a)(3), and (b)(2), remove the text “IEC 92-353” and add, in its place, the text “IEC 60092-353”.

§ 111.60-5 [Amended]

154. In § 111.60-5(a)(2), remove the text “IEC 92-353” and add, in its place, the text “IEC 60092-353”.

§ 111.70-1 [Amended]

155. In § 111.70-1(a), remove the text “IEC 92-301” and add, in its place, the text “IEC 60092-301”.

§ 111.70-3 [Amended]

156. In § 111.70-3(a), remove the text “IEC 92-201” and add, in its place, the text “IEC 60092-201”.

§ 111.75-20 [Amended]

157. In § 111.75-20(a) and (e), remove the text “IEC 92-306” and add, in its place, the text “IEC 60092-306”.

§ 111.81-1 [Amended]

158. In § 111.81-1(d), remove the text “IEC 92-201; IEC 92-306” and add, in its place, the text “IEC 60092-201; IEC 60092-306”; and remove the text “IEC 92-401” and add, in its place, the text “60092-401”.

§ 111.105-1 [Amended]

159. In § 111.105-1, remove the text “IEC 79-6” and add, in its place, the text “IEC 60079-6”; and remove the text “IEC 79-18” and add, in its place, the text “IEC 60079-18”.

§ 111.105-15 [Amended]

160. In § 111.105-15(e), remove the text “IEC 79-18” and add, in its place, the text “IEC 60079-18”.

PART 114—GENERAL PROVISIONS

161. The authority citation for part 114 continues to read as follows:

Authority: 46 U.S.C. 2103, 3306, 3703; Pub. L. 103-206, 107 Stat. 2439; 49 U.S.C. App. 1804; Department of Homeland Security Delegation No. 0170.1; § 114.900 also issued under 44 U.S.C. 3507.

§ 114.600 [Amended]

162. In § 114.600(a) following the text “on file at”, remove the text “the U.S. Coast Guard, Office of Operating and Environmental Standards (CG-OES), 2100 2nd St. SW., Stop 7126, Washington, DC 20593-7126 or” and add, in its place, the text “Coast Guard Headquarters. Contact Commandant (CG-OES), Attn: Office of Operating and Environmental Standards, U.S. Coast Guard Stop 7509, 2703 Martin Luther King Jr. Avenue SE., Washington, DC 20593-7509. The material is also available”.

PART 115—INSPECTION AND CERTIFICATION

163. The authority citation for part 115 continues to read as follows:

Authority: 33 U.S.C. 1321(j); 46 U.S.C. 2103, 3205, 3306, 3307; 49 U.S.C. App. 1804; E.O. 11735, 38 FR 21243, 3 CFR, 1971-1975 Comp., p. 277; Department of Homeland Security Delegation No. 0170.1.

§ 115.675 [Amended]

164. In § 115.675, remove the text “§ 115.605” and add, in its place, the text “§ 115.600”.

PART 116—CONSTRUCTION AND ARRANGEMENT

165. The authority citation for part 116 continues to read as follows:

Authority: 46 U.S.C. 2103, 3306; E.O. 12234, 45 FR 58801, 3 CFR, 1980 Comp., p. 277, Department of Homeland Security Delegation No. 0170.1.

166. In § 116.202, revise paragraph (a) introductory text to read as follows:

§ 116.202 Plans and information required.

(a) Except as provided in § 116.210 of this part, the owner of a vessel requesting initial inspection for certification must, prior to the start of construction, submit for approval three copies of the following plans. The plans may be delivered by visitors to the Commanding Officer, Marine Safety Center, U.S. Coast Guard, 4200 Wilson Boulevard Suite 400, Arlington, VA 22203, or transmitted by mail to: Commanding Officer (MSC), Attn: Marine Safety Center, U.S. Coast Guard Stop 7410, 4200 Wilson Boulevard Suite 400, Arlington, VA 20598-7410, in a written or electronic format. Information for submitting the VSP electronically can be found at http://www.uscg.mil/HQ/MSC.

* * * * *

PART 125—GENERAL

167. The authority citation for part 125 continues to read as follows:

Authority: 46 U.S.C. 2103, 3306, 3307; 49 U.S.C. App. 1804; Department of Homeland Security Delegation No. 0170.1.

§ 125.180 [Amended]

168. In § 125.180(a) following the text “inspection at the”, remove the text “U.S. Coast Guard, Office of Operating and Environmental Standards, (CG-OES) 2100 2nd St. SW., Stop 7126, Washington, DC 20593-7126, or” and add, in its place, the text “Coast Guard Headquarters. Contact Commandant (CG-OES), Attn: Office of Operating and Environmental Standards, U.S. Coast Guard Stop 7509, 2703 Martin Luther King Jr. Avenue SE., Washington, DC 20593-7509. The material is also available”.

PART 126—INSPECTION AND CERTIFICATION

169. The authority citation for part 126 continues to read as follows:

Authority: 33 U.S.C. 1321(j); 46 U.S.C. 3205, 3306, 3307, 3702, 14104; 46 U.S.C. Chapter 701; Executive Order 11735, 38 FR 21243; 3 CFR 1971-1975 Comp., p. 793; Department of Homeland Security Delegation No. 0170.1.

§ 126.235 [Amended]

170. In § 126.235(b) following the text “is available from”, remove the text “Commandant (CG-ENG-2), 2100 2nd St. SW., Stop 7126, Washington, DC 20593-7126; telephone (202) 372-1372; or fax (202) 372-1925” and add, in its place, the text “at Coast Guard Headquarters. Contact Commandant (CG-ENG-2), Attn: Naval Architecture Division, U.S. Coast Guard Stop 7509, 2703 Martin Luther King Jr. Avenue SE., Washington, DC 20593-7509; telephone 202-372-1372 or fax 202-372-1925”.

PART 127—CONSTRUCTION AND ARRANGEMENTS

171. The authority citation for part 127 continues to read as follows:

Authority: 46 U.S.C. 3306; Department of Homeland Security Delegation No. 0170.1.

§ 127.120 [Amended]

172. In § 127.120(b), remove the text “U.S. Coast Guard Marine Safety Center, 1900 Half Street SW., Suite 1000, Room 525, Washington, DC 20024, or by mail to: Commanding Officer, U.S. Coast Guard Marine Safety Center, 2100 2nd St. SW., Stop 7102, Washington, DC 20593-7102” and add, in its place, the text “Commanding Officer, Marine Safety Center, U.S. Coast Guard, 4200 Wilson Boulevard Suite 400, Arlington, VA 22203, or by mail to: Commanding Officer (MSC), Attn: Marine Safety Center, U.S. Coast Guard Stop 7410, 4200 Wilson Boulevard Suite 400, Arlington, VA 20598-7410”.

PART 147—HAZARDOUS SHIPS' STORES

173. The authority citation for part 147 continues to read as follows:

Authority: 46 U.S.C. 3306; E.O. 12234, 45 FR 58801, 3 CFR, 1980 Comp., p. 277; Department of Homeland Security Delegation No. 0170.1.

174. Revise § 147.5 to read as follows:

§ 147.5 Commandant (CG-OES); address.

Commandant (CG-ENG) is the Office of Design and Engineering Standards. The mailing address is Commandant (CG-ENG), Attn: Office of Design and Engineering Systems, U.S. Coast Guard Stop 7509, 2703 Martin Luther King Jr. Avenue SE., Washington, DC 20593-7509; telephone 202-372-1372.

§ 147.7 [Amended]

175. In § 147.7(a), following the text “inspection at the”, remove the text “the Coast Guard, Office of Operating and Environmental Standards (CG-OES), 2100 2nd Street SW., Stop 7126, Washington, DC 20593-7126, and is” and add, in its place, the text “Coast Guard Headquarters. Contact Commandant (CG-ENG), Attn: Office of Design and Engineering Systems, U.S. Coast Guard Stop 7509, 2703 Martin Luther King Jr. Avenue SE., Washington, DC 20593-7509. The material is also”.

§ 147.9 [Amended]

176. In § 147.9(a), remove the text “Commandant (CG-OES)” and add, in its place, the text “Commandant (CG-ENG)”.

§ 147.40 [Amended]

177. In § 147.40(a), (b), and (c), remove the text “Commandant (CG-OES)” and add, in its place, the text “Commandant (CG-ENG)”.

§ 147.60 [Amended]

178. In § 147.60(c)(2), remove the text “Commandant (CG-OES)” and add, in its place, the text “Commandant (CG-ENG)”.

179. In § 147.95, revise paragraphs (a) and (b)(2) to read as follows:

§ 147.95 Explosives.

(a) Explosives—general. Except as provided for elsewhere in this subchapter, explosives, as defined in 49 CFR 173.50, which are hazardous ships' stores must be stowed in accordance with 49 CFR 176.116 through 176.138.

(b) * * *

(2) All small arms ammunition must be stowed and locked in a metal closed cargo transport unit for Class 1 (explosive) materials as defined in 49 CFR 176.2. The key to the cargo transport unit must be kept in the possession of the master or a person designated by the master.

* * * * *

PART 148—CARRIAGE OF BULK SOLID MATERIALS THAT REQUIRE SPECIAL HANDLING

180. The authority citation for part 148 continues to read as follows:

Authority: 33 U.S.C. 1602; E.O. 12234, 45 FR 58801, 3 CFR, 1980 Comp., p. 277; 46 U.S.C. 3306, 5111; 49 U.S.C. 5103; Department of Homeland Security Delegation No. 0170.1.

181. In § 148.3, revise the definition of “Commandant (CG-ENG-5)” to read as follows:

§ 148.3 Definitions.

* * * * *

Commandant (CG-ENG-5) means the Chief, Hazardous Materials Division of the Office of Design and Engineering Systems. The mailing address is: Commandant (CG-ENG-5), Attn: Hazardous Materials Division, U.S. Coast Guard Stop 7509, 2703 Martin Luther King Jr. Avenue SE., Washington, DC 20593-7509; telephone 202-372-1420 or email hazmatstandards@uscg.mil.

* * * * *

§ 148.8 [Amended]

182. In § 148.8(a) following the text “inspection at the”, remove the text “U.S. Coast Guard Hazardous Materials Division (CG-ENG-5), 2100 2nd St. SW., Stop 7126, Washington, DC 20593-7126, and is available from the sources listed below” and add, in its place, the text “at Coast Guard Headquarters. Contact Commandant (CG-ENG-5), Attn: Hazardous Materials Division, U.S. Coast Guard Stop 7509, 2703 Martin Luther King Jr. Avenue SE., Washington, DC 20593-7509. The material is also available from the sources listed in paragraphs (b) and (c) of this section”.

§ 148.115 [Amended]

183. In § 148.115(b), following the text “be sent to the”, remove the text “Commandant (CG-ENG-5), U.S. Coast Guard, 2100 2nd St. SW., Stop 7126, Washington, DC 20593-7126” and add, in its place, the text “Commandant (CG-ENG-5), Attn: Hazardous Materials Division, U.S. Coast Guard Stop 7509, 2703 Martin Luther King Jr. Avenue SE., Washington, DC 20593-7509”.

PART 150—COMPATIBILITY OF CARGOES

184. The authority citation for part 150 continues to read as follows:

Authority: 46 U.S.C. 3306, 3703; Department of Homeland Security Delegation No. 0170.1. Section 150.105 issued under 44 U.S.C. 3507; Department of Homeland Security Delegation No. 0170.1.

185. Revise note 1 for Table I to Part 150 to read as follows:

Table I to Part 150—Alphabetical List of Cargoes

* * * * *

1. Because of very high reactivity or unusual conditions of carriage or potential compatibility problems, this commodity is not assigned to a specific group in the Compatibility Chart. For additional compatibility information, contact Commandant (CG-ENG-5), Attn: Hazardous Materials Division, U.S. Coast Guard Stop 7509, 2703 Martin Luther King Jr. Avenue SE., Washington, DC 20593-7509. Telephone 202-372-1420 or email hazmatstandards@uscg.mil.

* * * * *

186. Revise note 1 for Table II to Part 150 to read as follows:

Table II to Part 150—Grouping of Cargoes

* * * * *

1. Because of very high reactivity or unusual conditions of carriage or potential compatibility problems, this product is not assigned to a specific group in the Compatibility Chart. For additional compatibility information, contact Commandant (CG-ENG-5), Attn: Hazardous Materials Division, U.S. Coast Guard Stop 7509, 2703 Martin Luther King Jr. Avenue SE., Washington, DC 20593-7509. Telephone 202-372-1420 or email hazmatstandards@uscg.mil.

* * * * *

186. In Appendix III to Part 150, revise the fourth paragraph in Step 3 to read as follows:

Appendix III to Part 150—Testing Procedures for Determining Exceptions to the Chart

* * * * *

Step 3

* * * * *

Send a copy of the Data Sheet for each binary chemical mixture tested to: Commandant (CG-ENG-5), Attn: Hazardous Materials Division, U.S. Coast Guard Stop 7509, 2703 Martin Luther King Jr. Avenue SE., Washington, DC 20593-7509.

PART 151—BARGES CARRYING BULK LIQUID HAZARDOUS MATERIAL CARGOES

187. The authority citation for part 151 continues to read as follows:

Authority: 33 U.S.C. 1903; 46 U.S.C. 3703; Department of Homeland Security Delegation No. 0170.1.

§ 151.03-31 [Amended]

188. In § 151.03-31, remove the text “The Office of the Commandant, U.S. Coast Guard, Washington, DC 20593-0001” and add, in its place, the text “Commandant (CG-5P), Attn: Assistant Commandant for Prevention, U.S. Coast Guard Stop 7501, 2703 Martin Luther King Jr. Avenue SE., Washington, DC 20593-7501”.

PART 153—SHIPS CARRYING BULK LIQUID, LIQUEFIED GAS, OR COMPRESSED GAS HAZARDOUS MATERIALS

189. The authority citation for part 153 continues to read as follows:

Authority: 46 U.S.C. 3703; Department of Homeland Security Delegation No. 0170.1. Section 153.40 issued under 49 U.S.C. 5103. Sections 153.470 through 153.491, 153.1100 through 153.1132, and 153.1600 through 153.1608 also issued under 33 U.S.C. 1903 (b).

190. In § 153.2, revise the section heading and the definition of “Commandant” to read as follows:

§ 153.2 Definitions and acronyms.

* * * * *

Commandant means Commandant (staff symbol), Attn: (Staff title), U.S. Coast Guard Stop (mailing code) 2703 Martin Luther King Jr. Avenue SE., Washington, DC 20593-(mailing code)”.

* * * * *

§ 153.4 [Amended]

191. In § 153.4(a), following the text “file at”, remove the text “the U.S. Coast Guard, Office of Design and Engineering Standards (CG-ENG), 2100 2nd St. SW., Stop 7126, Washington, DC 20593-7126, or at” and add, in its place, the text “Coast Guard Headquarters. Contact Commandant (CG-ENG), Attn: Office of Design and Engineering Systems, U.S. Coast Guard Stop 7509, 2703 Martin Luther King Jr. Avenue SE., Washington, DC 20593-7509; or contact”.

§ 153.9 [Amended]

192. In 153.9(b), following the text “electronic format, to”, remove the text “Commanding Officer, U.S. Coast Guard Marine Safety Center, 2100 2nd St. SW., Stop 7102, Washington, DC 20593-7102” and add, in its place, the text “Commanding Officer (MSC), Attn: Marine Safety Center, U.S. Coast Guard Stop 7410, 4200 Wilson Boulevard Suite 400, Arlington, VA 20598-7410”.

PART 154—SAFETY STANDARDS FOR SELF-PROPELLED VESSELS CARRYING BULK LIQUEFIED GASES

193. The authority citation for part 154 continues to read as follows:

Authority: 46 U.S.C. 3703, 9101; Department of Homeland Security Delegation No. 0170.1.

§ 154.1 [Amended]

194. In § 154.1(a), following the text “on file at the”, remove the text “Commandant (CG-ENG), U.S. Coast Guard, 2100 2nd St. SW., Stop 7126, Washington, DC 20593-7126, or at” and add, in its place, the text “Coast Guard Headquarters. Contact Commandant (CG-ENG), Attn: Office of Design and Engineering Systems, U.S. Coast Guard Stop 7509, 2703 Martin Luther King Jr. Avenue SE., Washington, DC 20593-7509; or contact”.

§ 154.22 [Amended]

195. In § 154.22(a), following the text “must submit to the”, remove the text “Commanding Officer, U.S. Coast Guard Marine Safety Center, 2100 2nd St. SW., Stop 7102, Washington, DC 20593-7102” and add, in its place, the text “Commanding Officer (MSC), Attn: Marine Safety Center, U.S. Coast Guard Stop 7410, 4200 Wilson Boulevard Suite 400, Arlington, VA 20598-7410”.

§ 154.34 [Amended]

196. In § 154.34, remove the text “Commandant (CG-ENG), U.S. Coast Guard, 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”.

§ 154.151 [Amended]

197. In § 154.151(c), following the text “plan review under”, remove the text “§ 154.5(b)” and add, in its place, the text “§ 154.22(b)”; and following the text “Marine Safety Center”, remove the text “fourteen” and add, in its place, the text “14”.

PART 159—APPROVAL OF EQUIPMENT AND MATERIALS

198. The authority citation for part 159 continues to read as follows:

Authority: 46 U.S.C. 3306, 3703; 49 CFR 1.45, 1.46; Section 159.001-9 also issued under the authority of 44 U.S.C. 3507.

§ 159.001-4 [Amended]

199. In § 159.001-4(a), remove the text “U.S. Coast Guard, Life Saving and Fire Safety Division (CG-ENG-4), 2100 2nd St. SW., Stop 7126, Washington, DC 20593-7126, and is” and add, in its place, the text “Coast Guard Headquarters. Contact Commandant (CG-ENG-4), Attn: Lifesaving and Fire Safety Division, U.S. Coast Guard Stop 7509, 2703 Martin Luther King Jr. Avenue SE., Washington, DC 20593-7509. The material is also”.

§ 159.001-5 [Amended]

200. In § 159.001-5, remove the text “Commandant (CG-ENG-4), U.S. Coast Guard, 2100 2nd St. SW., Stop 7126, Washington, DC 20593-7126, Telephone: (202) 372-1392, Facsimile: (202) 372-1924” and add, in its place, the text “Commandant (CG-ENG-4), Attn: Lifesaving and Fire Safety Division, U.S. Coast Guard Stop 7509, 2703 Martin Luther King Jr. Avenue SE., Washington, DC 20593-7509; telephone 202-372-1392 or fax 202-372-1924”.

PART 160—LIFESAVING EQUIPMENT

201. The authority citation for part 160 continues to read as follows:

Authority: 46 U.S.C. 2103, 3306, 3703 and 4302; E.O. 12234; 45 FR 58801; 3 CFR, 1980 Comp., p. 277; 49 CFR 1.46; and Department of Homeland Security Delegation No. 0170.1.

§ 160.002-1 [Amended]

202. In § 160.002-1(c), remove the text “Commandant (CG-ENG), U.S. Coast Guard, 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”; and remove the text “Commanding Officer, Naval Supply Depot, 5801 Tabor Avenue, Philadelphia, Pa., 19120” and add, in its place, the text “Military Specifications and Standards, Standardization Documents Order Desk, Building 4D, 700 Robbins Avenue, Philadelphia, PA 19111-5094, https://assist.daps.dla.mil/quicksearch/.”.

§ 160.005-1 [Amended]

203. In 160.005-1(c), remove the text “Commandant, U.S. Coast Guard” and add, in its place, the text “Commandant (CG-ENG-4), Attn: Lifesaving and Fire Safety Division, U.S. Coast Guard Stop 7509, 2703 Martin Luther King Jr. Avenue SE., Washington, DC 20593-7509”; and following the text “obtained from the”, remove the text “Commanding Officer, Naval Supply Depot, 5801 Tabor Avenue, Philadelphia, Pa. 19120” and add, in its place, the text “Military Specifications and Standards, Standardization Documents Order Desk, Building 4D, 700 Robbins Avenue, Philadelphia, PA 19111-5094, https://assist.daps.dla.mil/quicksearch/”.

§ 160.010-1 [Amended]

204. In § 160.010-1(a), remove the text “Commandant (CG-ENG-4), U.S. Coast Guard, 2100 2nd Street SW., Stop 7126, Washington, DC 20593-7126” and add, in its place, the text “Coast Guard Headquarters. Contact Commandant (CG-ENG-4), Attn: Lifesaving and Fire Safety Division, U.S. Coast Guard Stop 7509, 2703 Martin Luther King Jr. Avenue SE., Washington, DC 20593-7509”.

205. In § 160.010-2, revise the definition of “Commandant” to read as follows:

§ 160.010-2 Definitions.

* * * * *

Commandant means the Commandant (CG-ENG-4), Attn: Lifesaving and Fire Safety Division, U.S. Coast Guard Stop 7509, 2703 Martin Luther King Jr. Avenue SE., Washington, DC 20593-7509.

* * * * *

§ 160.013-1 [Amended]

206. In § 160.013-1(c), following the text “request from the”, remove the text “Commandant, U.S. Coast Guard” and add, in its place, the text “Coast Guard Headquarters. Contact Commandant (CG-ENG-4), Attn: Lifesaving and Fire Safety Division, U.S. Coast Guard Stop 7509, 2703 Martin Luther King Jr. Avenue SE., Washington, DC 20593-7509”.

§ 160.016-5 [Amended]

207. In § 160.016-5(a), remove the text “Commandant, United States Coast Guard, Washington, DC 20226” and add, in its place, the text “Commandant (CG-ENG-4), Attn: Lifesaving and Fire Safety Division, U.S. Coast Guard Stop 7509, 2703 Martin Luther King Jr. Avenue SE., Washington, DC 20593-7509”.

§ 160.022-1 [Amended]

208. In § 160.022-1(c), remove the text “Commandant (CG-ENG-4), U.S. Coast Guard, 2100 2nd St. SW., Stop 7126, Washington, DC 20593-7126” and add, in its place, the text “Coast Guard Headquarters. Contact Commandant (CG-ENG-4), Attn: Lifesaving and Fire Safety Division, U.S. Coast Guard Stop 7509, 2703 Martin Luther King Jr. Avenue SE., Washington, DC 20593-7509”.

§ 160.023-1 [Amended]

209. In § 160.023-1(b), remove the text “Customer Service, Naval Publications and Forms Center, 5801 Tabor Avenue, Philadelphia, PA. 19120 (tel: (215) 697-2000)” and add, in its place, the text “Military Specifications and Standards, Standardization Documents Order Desk, Building 4D, 700 Robbins Avenue, Philadelphia, PA 19111-5094, https://assist.daps.dla.mil/quicksearch/”.

§ 160.026-1 [Amended]

210. In § 160.026-1(b), remove the text “Commanding Officer, Naval Supply Depot, 5801 Tabor Avenue, Philadelphia, Pa., 19120” and add, in its place, the text “Military Specifications and Standards, Standardization Documents Order Desk, Building 4D, 700 Robbins Avenue, Philadelphia, PA 19111-5094, https://assist.daps.dla.mil/quicksearch/”.

§ 160.031-1 [Amended]

211. In § 160.031-1(b), remove the text “Customer Service, Naval Publications and Forms Center, 5801 Tabor Avenue, Philadelphia, PA. 19120 (tel: (215) 697-2000)” and add, in its place, the text “Military Specifications and Standards, Standardization Documents Order Desk, Building 4D, 700 Robbins Avenue, Philadelphia, PA 19111-5094, https://assist.daps.dla.mil/quicksearch/”.

§ 160.037-1 [Amended]

212. In § 160.037-1(c), remove the text “from the Commandant (CG-ENG), 2100 2nd St. SW., Stop 7126, Washington, DC 20593-7126” and add, in its place, the text “from Coast Guard Headquarters. Contact Commandant (CG-ENG), Attn: Office of Design and Engineering Systems, U.S. Coast Guard Stop 7509, 2703 Martin Luther King Jr. Avenue SE., Washington, DC 20593-7509”.

§ 160.040-1 [Amended]

213. In § 160.040-1(b), remove the text “Customer Service, Naval Publications and Forms Center, 5801 Tabor Avenue, Philadelphia, PA 19120 (tel: (215) 697-2000)” and add, in its place, the text “Military Specifications and Standards, Standardization Documents Order Desk, Building 4D, 700 Robbins Avenue, Philadelphia, PA 19111-5094, https://assist.daps.dla.mil/quicksearch/”.

§ 160.047-1 [Amended]

214. Amend § 160.047-1 as follows:

a. In paragraph (c)(1), remove the text “Commandant (CG-ENG), U.S. Coast Guard, 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”; and

b. In paragraph (c)(3), remove the text “Commanding Officer, Naval Supply Depot, 5801 Tabor Avenue, Philadelphia, PA 19120” and add, in its place, the text “Military Specifications and Standards, Standardization Documents Order Desk, Building 4D, 700 Robbins Avenue, Philadelphia, PA 19111-5094, https://assist.daps.dla.mil/quicksearch/”.

§ 160.048-1 [Amended]

215. In § 160.048-1(c), remove the text “the Commandant, U.S. Coast Guard, 2100 2nd Street SW., Stop 7126, Washington, DC 20593-7126” and add, in its place, the text “Commandant (CG-ENG), Attn: Office of Design and Engineering Systems, U.S. Coast Guard Stop 7509, 2703 Martin Luther King Jr. Avenue SE., Washington, DC 20593-7509”; and remove the text “Commanding Officer, Naval Supply Depot, 5801 Tabor Avenue, Philadelphia, PA 19120” and add, in its place, the text “Military Specifications and Standards, Standardization Documents Order Desk, Building 4D, 700 Robbins Avenue, Philadelphia, PA 19111-5094, https://assist.daps.dla.mil/quicksearch/”.

§ 160.049-1 [Amended]

216. In § 160.049-1(c), following the text “upon request from”, remove the text “the Commandant, U.S. Coast Guard, 2100 2nd Street SW., Stop 7126, Washington, DC 20593-7126” and add, in its place, the text “Commandant (CG-ENG), Attn: Office of Design and Engineering Systems, U.S. Coast Guard Stop 7509, 2703 Martin Luther King Jr. Avenue SE., Washington, DC 20593-7509”.

217. In § 160.051-3, revise the definition of “Commandant” to read as follows:

§ 160.051-3 Definitions.

* * * * *

Commandant means Commandant (CG-ENG-4), Attn: Lifesaving and Fire Safety Division, U.S. Coast Guard Stop 7509, 2703 Martin Luther King Jr. Avenue SE., Washington, DC 20593-7509.

* * * * *

§ 160.051-5 [Amended]

218. In § 160.051-5(a), remove the text “Commandant (CG-ENG-4), U.S. Coast Guard, 2100 2nd Street SW., Stop 7126, Washington, DC 20593-7126” and add, in its place, the text “Coast Guard Headquarters. Contact Commandant (CG-ENG-4), Attn: Lifesaving and Fire Safety Division, U.S. Coast Guard Stop 7509, 2703 Martin Luther King Jr. Avenue SE., Washington, DC 20593-7509”.

§ 160.052-1 [Amended]

219. Amend § 160.052-1 as follows:

a. In paragraph (c)(1), remove the text “Commandant (CG-ENG), U.S. Coast Guard, 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”; and

b. In paragraph (c)(3), remove the text “Commanding Officer, Naval Supply Depot, 5801 Tabor Avenue, Philadelphia, PA 19120” and add, in its place, the text “Military Specifications and Standards, Standardization Documents Order Desk, Building 4D, 700 Robbins Avenue, Philadelphia, PA 19111-5094, https://assist.daps.dla.mil/quicksearch/”.

§ 160.053-1 [Amended]

220. In § 160.053-1(b), remove the text “Business Service Center, General Services Administration, Washington, DC 20407” and add, in its place, the text “General Services Administration, Federal Acquisition Service, Office of the FAS Commissioner, 2200 Crystal Drive, 11th Floor, Arlington, VA 22202, 703-605-5400”; and remove the text “Commanding Officer, Naval Supply Depot, 5801 Tabor Avenue, Philadelphia, Pa. 19120” and add, in its place, the text “Military Specifications and Standards, Standardization Documents Order Desk, Building 4D, 700 Robbins Avenue, Philadelphia, PA 19111-5094, https://assist.daps.dla.mil/quicksearch/”.

§ 160.054-1 [Amended]

221. In § 160.054-1(b), remove the text “the Commandant (CG-ENG), U.S. Coast Guard, 2100 2nd St. SW., Stop 7126, Washington, DC 20593-7126” and add, in its place, the text, “Commandant (CG-ENG), Attn: Office of Design and Engineering Systems, U.S. Coast Guard Stop 7509, 2703 Martin Luther King Jr. Avenue SE., Washington, DC 20593-7509”.

222. Revise § 160.055-1(c) to read as follows:

§ 160.055-1 Incorporation by reference.

* * * * *

(c) Copies on file. Copies of the specifications, standards, and plans referred to in this section shall be kept on file by the manufacturer, together with the approved plans and certificate of approval. The Coast Guard Specification and plans may be obtained upon request from the Commandant (CG-ENG), Attn: Office of Design and Engineering Systems, U.S. Coast Guard Stop 7509, 2703 Martin Luther King Jr. Avenue SE., Washington, DC 20593-7509. The Federal standards may be obtained from the General Services Administration, Federal Acquisition Service, Office of the FAS Commissioner, 2200 Crystal Drive, 11th Floor, Arlington, VA 22202; telephone 703-605-5400. The Military Specifications may be obtained from the Military Specifications and Standards, Standardization Documents Order Desk, Building 4D, 700 Robbins Avenue, Philadelphia, PA 19111-5094, https://assist.daps.dla.mil/quicksearch/.

The ASTM Standards may be purchased from ASTM International, 100 Barr Harbor Drive, P.O. Box C700, West Conshohocken, PA 19428-2959; telephone 877-909-2786 or Web site http://www.astm.org.

§ 160.057-1 [Amended]

223. In § 160.057-1(c), remove the text “Commandant (CG-ENG), U.S. Coast Guard, 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”.

§ 160.058-1 [Amended]

224. In § 160.058-1(b), remove the text “Commanding Officer, Naval Supply Depot, 5801 Tabor Avenue, Philadelphia, Pa., 19120” and add, in its place, the text “Military Specifications and Standards, Standardization Documents Order Desk, Building 4D, 700 Robbins Avenue, Philadelphia, PA 19111-5094, https://assist.daps.dla.mil/quicksearch/”.

§ 160.060-1 [Amended]

225. Amend § 160.060-1 as follows:

a. In paragraph (c)(1), remove the text “Commandant (CG-ENG), U.S. Coast Guard, 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”;

b. In paragraph (c)(2), remove the text “Business Service Center, General Services Administration, Washington, DC, 20407” and add, in its place, the text “Business Service Center, General Services Administration, Washington, DC 20407”; and

c. In paragraph (c)(3), remove the text “Commanding Officer, Naval Supply Depot, 5801 Tabor Avenue, Philadelphia, Pa., 19120” and add, in its place, the text “Military Specifications and Standards, Standardization Documents Order Desk, Building 4D, 700 Robbins Avenue, Philadelphia, PA 19111-5094, https://assist.daps.dla.mil/quicksearch/”.

§ 160.061-1 [Amended]

226. Amend § 160.061-1 as follows:

a. In paragraph (b)(1), remove the text “Business Service Center, General Services Administration, Washington, DC 20407” and add, in its place, the text “General Services Administration, Federal Acquisition Service, Office of the FAS Commissioner, 2200 Crystal Drive, 11th Floor, Arlington, VA 22202; telephone 703-605-5400”; and

b. In paragraph (b)(2), remove the text “Commanding Officer, Naval Supply Depot, 5801 Tabor Avenue, Philadelphia, Pa. 19120” and add, in its place, the text “Military Specifications and Standards, Standardization Documents Order Desk, Building 4D, 700 Robbins Avenue, Philadelphia, PA 19111-5094, https://assist.daps.dla.mil/quicksearch/”.

§ 160.062-1 [Amended]

227. Amend § 160.062-1 as follows:

a. In paragraph (c)(1), remove the text “Commanding Officer, Naval Supply Depot, 5801 Tabor Avenue, Philadelphia, Pa. 19120” and add, in its place, the text “Military Specifications and Standards, Standardization Documents Order Desk, Building 4D, 700 Robbins Avenue, Philadelphia, PA 19111-5094, https://assist.daps.dla.mil/quicksearch/”; and

b. In paragraph (c)(2), remove the text “Business Service Center, General Services Administration, Washington, DC 20407” and add, in its place, the text “General Services Administration, Federal Acquisition Service, Office of the FAS Commissioner, 2200 Crystal Drive, 11th Floor, Arlington, VA 22202; telephone 703-605-5400”.

§ 160.072-09 [Amended]

228. In § 160.072-09(a), remove the text “Commandant (CG-ENG), U.S. Coast Guard, 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”.

§ 160.073-5 [Amended]

229. In § 160.073-5(b), following the text “requesting the listing to”, remove the text “Commandant (CG-ENG), U.S. Coast Guard, 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”.

230. In § 160.076-5, revise the definition of “Commandant” to read as follows:

§ 160.076-5 Definitions.

Commandant means the Chief of the Lifesaving and Fire Safety Standards Division. Address: Commandant (CG-ENG-4), Attn: Lifesaving and Fire Safety Division, U.S. Coast Guard Stop 7509, 2703 Martin Luther King Jr. Avenue SE., Washington, DC 20593-7509; telephone 202-372-1392 or fax 202-372-1924.

* * * * *

§ 160.076-11 [Amended]

231. In § 160.076-11(a), following the text “(NARA) and at”, remove the text “the U.S. Coast Guard, Lifesaving and Fire Safety Division (CG-ENG-4), 2100 2nd St. SW., Stop 7126, Washington, DC 20593-7126, and is” and add, in its place, the text “Coast Guard Headquarters. Contact Commandant (CG-ENG-4), Attn: Lifesaving and Fire Safety Division, U.S. Coast Guard Stop 7509, 2703 Martin Luther King Jr. Avenue SE., Washington, DC 20593-7509. The material is”.

§ 160.077-2 [Amended]

232. In § 160.077-2(a), remove the text “the Chief of the Lifesaving and Fire Safety Division, Life Saving and Fire Safety Division. Address: Commandant (CG-ENG-4), U.S. Coast Guard Headquarters, 2100 2nd St. SW., Stop 7126, Washington, DC 20593-7126” and add, in its place, the text “the Chief of the Lifesaving and Fire Safety Standards Division. Address: Commandant (CG-ENG-4), Attn: Lifesaving and Fire Safety Division, U.S. Coast Guard Stop 7509, 2703 Martin Luther King Jr. Avenue SE., Washington, DC 20593-7509; telephone 202-372-1392 or fax 202-372-1924”.

§ 160.077-5 [Amended]

233. In § 160.077-5(a), following the text “is on file at the” remove the text “U.S. Coast Guard, Office of Design and Engineering Standards (CG-ENG), 2100 2nd Street SW., Stop 7126, Washington, DC 20593-7126 or at” and add, in its place, the text “Coast Guard Headquarters. Contact Commandant (CG-ENG), Attn: Office of Design and Engineering Systems, U.S. Coast Guard Stop 7509, 2703 Martin Luther King Jr. Avenue SE., Washington, DC 20593-7509. You may also contact”.

234. In § 160.115-3, revise the definition of “Commandant” to read as follows:

§ 160.115-3 Definitions.

* * * * *

Commandant means the Chief of the Lifesaving and Fire Safety Standards Division. Address: Commandant (CG-ENG-4), Attn: Lifesaving and Fire Safety Division, U.S. Coast Guard Stop 7509, 2703 Martin Luther King Jr. Avenue SE., Washington, DC 20593-7509; telephone 202-372-1392 or fax 202-372-1924.

* * * * *

§ 160.115-5 [Amended]

235. In § 160.115-5(a), following the text “for inspection at”, remove the text “Commandant (CG-ENG-4), U.S. Coast Guard, 2100 2nd Street SW., Stop 7126, Washington, DC 20593-7126” and add, in its place, the text “Coast Guard Headquarters. Contact Commandant (CG-ENG-4), Attn: Lifesaving and Fire Safety Division, U.S. Coast Guard Stop 7509, 2703 Martin Luther King Jr. Avenue SE., Washington, DC 20593-7509”.

236. In § 160.132-3, revise the definition of “Commandant” to read as follows:

§ 160.132-3 Definitions.

* * * * *

Commandant means the Chief of the Lifesaving and Fire Safety Standards Division. Address: Commandant (CG-ENG-4), Attn: Lifesaving and Fire Safety Division, U.S. Coast Guard Stop 7509, 2703 Martin Luther King Jr. Avenue SE., Washington, DC 20593-7509; telephone 202-372-1392 or fax 202-372-1924.

* * * * *

§ 160.132-5 [Amended]

237. In § 160.132-5(a), following the text “for inspection at”, remove the text “Commandant (CG-ENG-4), U.S. Coast Guard, 2100 2nd Street SW., Stop 7126, Washington, DC 20593-7126” and add, in its place, the text “Coast Guard Headquarters. Contact Commandant (CG-ENG-4), Attn: Lifesaving and Fire Safety Division, U.S. Coast Guard Stop 7509, 2703 Martin Luther King Jr. Avenue SE., Washington, DC 20593-7509”.

238. In § 160.133-3, revise the definition of “Commandant” to read as follows:

§ 160.133-3 Definitions.

* * * * *

Commandant means the Chief of the Lifesaving and Fire Safety Standards Division. Address: Commandant (CG-ENG-4), Attn: Lifesaving and Fire Safety Division, U.S. Coast Guard Stop 7509, 2703 Martin Luther King Jr. Avenue SE., Washington, DC 20593-7509; telephone 202-372-1392 or fax 202-372-1924.

* * * * *

§ 160.133-5 [Amended]

239. In § 160.133-5(a), following the words “available for inspection at”, remove the text “Commandant (CG-ENG-4), U.S. Coast Guard, 2100 2nd Street SW., Stop 7126, Washington, DC 20593-7126” and add, in its place, the text “Coast Guard Headquarters. Contact Commandant (CG-ENG-4), Attn: Lifesaving and Fire Safety Division, U.S. Coast Guard Stop 7509, 2703 Martin Luther King Jr. Avenue SE., Washington, DC 20593-7509”.

240. In § 160.135-3, revise the definition of “Commandant” to read as follows:

§ 160.135-3 Definitions.

* * * * *

Commandant means the Chief of the Lifesaving and Fire Safety Standards Division. Address: Commandant (CG-ENG-4), Attn: Lifesaving and Fire Safety Division, U.S. Coast Guard Stop 7509, 2703 Martin Luther King Jr. Avenue SE., Washington, DC 20593-7509; telephone 202-372-1392 or fax 202-372-1924.

* * * * *

241. In § 160.151-3, revise the definition of “Commandant” to read as follows:

§ 160.151-3 Definitions.

* * * * *

Commandant means the Chief of the Lifesaving and Fire Safety Standards Division. Address: Commandant (CG-ENG-4), Attn: Lifesaving and Fire Safety Division, U.S. Coast Guard Stop 7509, 2703 Martin Luther King Jr. Avenue SE., Washington, DC 20593-7509; telephone 202-372-1392 or fax 202-372-1924.

* * * * *

§ 160.151-5 [Amended]

242. In § 160.151-5(a) following the text “for inspection at”, remove the text “Commandant (CG-ENG-4), U.S. Coast Guard, 2100 2nd Street SW., Stop 7126, Washington, DC 20593-7126” and add, in its place, the text “Coast Guard Headquarters. Contact Commandant (CG-ENG-4), Attn: Lifesaving and Fire Safety Division, U.S. Coast Guard Stop 7509, 2703 Martin Luther King Jr. Avenue SE., Washington, DC 20593-7509”.

243. In § 160.156-3, revise the definition of “Commandant” to read as follows:

§ 160.156-3 Definitions.

* * * * *

Commandant means the Chief of the Lifesaving and Fire Safety Standards Division. Address: Commandant (CG-ENG-4), Attn: Lifesaving and Fire Safety Division, U.S. Coast Guard Stop 7509, 2703 Martin Luther King Jr. Avenue SE., Washington, DC 20593-7509; telephone 202-372-1392 or fax 202-372-1924.

* * * * *

§ 160.156-5 [Amended]

244. In § 160.156-5(a), following the text “available for inspection at”, remove the text “Commandant (CG-ENG-4), U.S. Coast Guard, 2100 2nd Street SW., Stop 7126, Washington, DC 20593-7126” and add, in its place, the text “Coast Guard Headquarters. Contact Commandant (CG-ENG-4), Attn: Lifesaving and Fire Safety Division, U.S. Coast Guard Stop 7509, 2703 Martin Luther King Jr. Avenue SE., Washington, DC 20593-7509”.

245. In § 160.170-3, revise the definition of “Commandant” to read as follows:

§ 160.170-3 Definitions.

* * * * *

Commandant means the Chief of the Lifesaving and Fire Safety Standards Division. Address: Commandant (CG-ENG-4), Attn: Lifesaving and Fire Safety Division, U.S. Coast Guard Stop 7509, 2703 Martin Luther King Jr. Avenue SE., Washington, DC 20593-7509; telephone 202-372-1392 or fax 202-372-1924.

* * * * *

§ 160.170-5 [Amended]

246. In § 160.170-5(a) following the text “available for inspection at”, remove the text “Commandant (CG-ENG-4), U.S. Coast Guard, 2100 2nd Street SW., Stop 7126, Washington, DC 20593-7126” and add, in its place, the text “Coast Guard Headquarters. Contact Commandant (CG-ENG-4), Attn: Lifesaving and Fire Safety Division, U.S. Coast Guard Stop 7509, 2703 Martin Luther King Jr. Avenue SE., Washington, DC 20593-7509”.

§ 160.171-3 [Amended]

247. In § 160.171-3(a) following the text “20408, and at”, remove the text “the U.S. Coast Guard, Lifesaving and Fire Safety Division (CG-ENG-4), 2100 2nd St. SW., Stop 7126, Washington, DC 20593-7126” and add, in its place, the text “Coast Guard Headquarters. Contact Commandant (CG-ENG-4), Attn: Lifesaving and Fire Safety Division, U.S. Coast Guard Stop 7509, 2703 Martin Luther King Jr. Avenue SE., Washington, DC 20593-7509”.

§ 160.174-3 [Amended]

248. In § 160.174-3(a) following the text “20408, and at”, remove the text “the U.S. Coast Guard, Lifesaving and Fire Safety Division (CG-ENG-4), 2100 2nd St. SW., Stop 7126, Washington, DC 20593-7126” and add, in its place, the text “Coast Guard Headquarters. Contact Commandant (CG-ENG-4), Attn: Lifesaving and Fire Safety Division, U.S. Coast Guard Stop 7509, 2703 Martin Luther King Jr. Avenue SE., Washington, DC 20593-7509”.

§ 160.176-3 [Amended]

249. In § 160.176-3(a) in the definition of “Commandant”, remove the text “Chief of the Lifesaving and Fire Safety Division, Life Saving and Fire Safety Division. Address: Commandant (CG-ENG-4), U.S. Coast Guard Headquarters, 2100 2nd St. SW., Stop 7126, Washington, DC 20593-7126” and add, in its place, the text “Commandant means the Chief of the Lifesaving and Fire Safety Standards Division. Address: Commandant (CG-ENG-4), Attn: Lifesaving and Fire Safety Division, U.S. Coast Guard Stop 7509, 2703 Martin Luther King Jr. Avenue SE., Washington, DC 20593-7509; telephone 202-372-1392 or fax 202-372-1924”.

§ 160.176-4 [Amended]

250. In § 160.176-4(a) following the text “is on file at”, remove the text “the U.S. Coast Guard, Office of Design and Engineering Standards (CG-ENG), 2100 2nd Street SW., Stop 7126, Washington, DC 20593-7126 or” and add, in its place, the text “Coast Guard Headquarters. Contact Commandant (CG-ENG-4), Attn: Lifesaving and Fire Safety Division, U.S. Coast Guard Stop 7509, 2703 Martin Luther King Jr. Avenue SE., Washington, DC 20593-7509. You may also inspect this material”.

PART 161—ELECTRICAL EQUIPMENT

251. The authority citation for part 161 continues to read as follows:

Authority: 46 U.S.C. 3306, 3703, 4302; E.O. 12234, 45 FR 58801, 3 CFR, 1980 Comp., p. 277; Department of Homeland Security Delegation No. 0170.1.

§ 161.002-1 [Amended]

252. Amend § 161.002-1 as follows:

a. In paragraph (a) following the text “(NARA), and at”, remove the text “the U.S. Coast Guard, (CG-ENG), 2100 2nd St. SW., Stop 7126, Washington, DC 20593-7126, and is” and add, in its place, the text “Coast Guard Headquarters. Contact Commandant (CG-ENG), Attn: Office of Design and Engineering Systems, U.S. Coast Guard Stop 7509, 2703 Martin Luther King Jr. Avenue SE., Washington, DC 20593-7509. The material is also”; and

b. In paragraph (b), following the text “International Electrotechnical Commission, 1, Rue de Varembe, Geneva, Switzerland”, remove the text “IEC 533” and add, in its place, the text “IEC 60533”.

§ 161.002-18 [Amended]

253. In § 161.002-18(a), remove the text “Commandant (CG-ENG), U.S. Coast Guard Headquarters, 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”.

§ 161.006-6 [Amended]

254. In § 161.006-6(a), remove the text “Commandant, United States Coast Guard, Washington, DC, 20226” and add, in its place, the text “Commandant (CG-ENG-4), Attn: Lifesaving and Fire Safety Division, U.S. Coast Guard Stop 7509, 2703 Martin Luther King Jr. Avenue SE., Washington, DC 20593-7509”.

§ 161.010-1 [Amended]

255. In § 161.010-1(a) following the text “(NARA), and at”, remove the text “the Commanding Officer, USCG Marine Safety Center, 1900 Half Street SW., Suite 1000, Room 525, Washington, DC 20024” and add, in its place, the text “Marine Safety Center, U.S. Coast Guard, 4200 Wilson Boulevard Suite 400, Arlington, VA 22203”.

256. In § 161.010-4, revise paragraph (a) to read as follows:

§ 161.010-4 Procedure for approval.

(a) A request for approval of an automatic floating electric waterlight must be submitted by visitors to the Commanding Officer, Marine Safety Center, U.S. Coast Guard, 4200 Wilson Boulevard Suite 400, Arlington, VA 22203, or transmitted by mail to: Commanding Officer (MSC), Attn: Marine Safety Center, U.S. Coast Guard Stop 7410, 4200 Wilson Boulevard Suite 400, Arlington, VA 20598-7410, in a written or electronic format. Information for submitting the VSP electronically can be found at http://www.uscg.mil/HQ/MSC.

* * * * *

§ 161.012-5 [Amended]

257. In § 161.012-5(a), remove the text “Commandant (CG-ENG), U.S. Coast Guard, 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”.

§ 161.013-11 [Amended]

258. In § 161.013-11(c)(1), remove the text “Commandant (CG-ENG), U.S. Coast Guard, 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”.

§ 161.013-17 [Amended]

259. In § 161.013-17, following the text “written notice to the”, remove the text “Commandant (CG-ENG), U.S. Coast Guard, 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”.

PART 162—ENGINEERING EQUIPMENT

260. The authority citation for part 162 continues to read as follows:

Authority: 33 U.S.C. 1321(j), 1903; 46 U.S.C. 3306, 3703, 4104, 4302; E.O. 12234, 45 FR 58801, 3 CFR, 1980 Comp., p. 277; E.O. 12777, 56 FR 54757, 3 CFR, 1991 Comp., p. 351; Department of Homeland Security Delegation No. 0170.1.

§ 162.017-1 [Amended]

261. In § 162.017-1(b) following the text “inspection at the”, remove the text “U.S. Coast Guard, Office of Design and Engineering Standards (CG-ENG), 2100 2nd St. SW., Stop 7126, Washington, DC 20593-7126, and is available from the sources listed below” and add, in its place, the text “Coast Guard Headquarters. Contact Commandant (CG-ENG), Attn: Office of Design and Engineering Systems, U.S. Coast Guard Stop 7509, 2703 Martin Luther King Jr. Avenue SE., Washington, DC 20593-7509. The material is also available from the source listed in paragraph (c) of this section”.

§ 162.017-6 [Amended]

262. In § 162.017-6(a) following the text “visitors to the”, remove the text “Commanding Officer, U.S. Coast Guard Marine Safety Center, 1900 Half Street SW., Suite 1000, Room 525, Washington, DC 20024, or transmitted by mail to: Commanding Officer, U.S. Coast Guard Marine Safety Center, 2100 2nd St. SW., Stop 7126, Washington, DC 20593-7126” and add, in its place, the text “Commanding Officer, Marine Safety Center, U.S. Coast Guard, 4200 Wilson Boulevard Suite 400, Arlington, VA 22203, or transmitted by mail to: Commanding Officer (MSC), Attn: Marine Safety Center, U.S. Coast Guard Stop 7410, 4200 Wilson Boulevard Suite 400, Arlington, VA 20598-7410”.

§ 162.018-8 [Amended]

263. In § 162.018-8(a) following the text “visitors to the”, remove the text “Commanding Officer, U.S. Coast Guard Marine Safety Center, 1900 Half Street SW., Suite 1000, Room 525, Washington, DC 20024, or transmitted by mail to: Commanding Officer, U.S. Coast Guard Marine Safety Center, 2100 2nd St. SW., Stop 7126, Washington, DC 20593-7126” and add, in its place, the text “Commanding Officer, Marine Safety Center, U.S. Coast Guard, 4200 Wilson Boulevard Suite 400, Arlington, VA 22203, or transmitted by mail to: Commanding Officer (MSC), Attn: Marine Safety Center, U.S. Coast Guard Stop 7410, 4200 Wilson Boulevard Suite 400, Arlington, VA 20598-7410”.

§ 162.027-1 [Amended]

264. In § 162.027-1(a) following the text “and Records Administration”, remove the text “(NARA and at the U.S. Coast Guard, Office of Design and Engineering Standards (CG-ENG), 2100 2nd St. SW., Stop 7126, Washington, DC 20593-7126 and is” and add, in its place the text “(NARA) and at Coast Guard Headquarters. Contact Commandant (CG-ENG), Attn: Office of Design and Engineering Systems, U.S. Coast Guard Stop 7509, 2703 Martin Luther King Jr. Avenue SE., Washington, DC 20593-7509. The material is also”.

§ 162.050-4 [Amended]

265. In § 162.050-4(a), following the text “available for inspection at”, remove the text “the Coast Guard, Office of Design and Engineering Standards (CG-ENG), 2100 2nd St. SW., Stop 7126, Washington, DC 20593-7126” and add, in its place, the text “Coast Guard Headquarters. Contact Commandant (CG-ENG), Attn: Office of Design and Engineering Systems, U.S. Coast Guard Stop 7509, 2703 Martin Luther King Jr. Avenue SE., Washington, DC 20593-7509”.

266. In § 162.050-7, paragraph (a) to read as follows:

§ 162.050-7 Approval procedures.

(a) An application for approval of equipment under this subpart must either be delivered by visitors to the Commanding Officer, Marine Safety Center, U.S. Coast Guard, 4200 Wilson Boulevard Suite 400, Arlington, VA 22203, or transmitted by mail to: Commanding Officer (MSC), Attn: Marine Safety Center, U.S. Coast Guard Stop 7410, 4200 Wilson Boulevard Suite 400, Arlington, VA 20598-7410, in a written or electronic format. Information for submitting the VSP electronically can be found at http://www.uscg.mil/HQ/MSC.

* * * * *

§ 162.050-15 [Amended]

267. Amend § 162.050-15 as follows:

a. In paragraph (a), remove the text “Commandant (CG-ENG-3), Systems Engineering Division, 2100 2nd St. SW., Stop 7126, Washington, DC 20593-7126” and add, in its place, the text “Commandant (CG-ENG-3), Attn: Systems Engineering Division, U.S. Coast Guard Stop 7509, 2703 Martin Luther King Jr. Avenue SE., Washington, DC 20593-7509”; and

b. In paragraph (h), remove the text “Commandant (CG-ENG-3), Systems Engineering Division, 2100 2nd St. SW., Stop 7126, Washington, DC 20593-7126” and add, in its place, the text “Commandant (CG-ENG-3), Attn: Systems Engineering Division, U.S. Coast Guard Stop 7509, 2703 Martin Luther King Jr. Avenue SE., Washington, DC 20593-7509”.

§ 162.060-5 [Amended]

268. In § 162.060-5(a) following the text “for inspection from the”, remove the text “Director of Commercial Regulations and Standards (CG-5PS), U.S. Coast Guard, 2100 2nd St. SW., Stop 7126, Washington, DC 20593-7126, and is available from the sources listed below” and add, in its place, the text “at Coast Guard Headquarters. Contact Commandant (CG-5PS), Attn: Director of Commercial Regulations, U.S. Coast Guard Stop 7509, 2703 Martin Luther King Jr. Avenue SE., Washington, DC 20593-7509. The material is also from the sources listed in paragraphs (b) through (d) of this section”.

§ 162.060-10 [Amended]

269. Amend § 162.060-10 as follows:

a. In paragraph (a), following the text “as possible to the”, remove the text “Commanding Officer, U.S. Coast Guard Marine Safety Center (MSC), 2100 2nd St. SW., Stop 7102, Washington, DC 20593-7102” and add, in its place, the text “Commanding Officer (MSC), Attn: Marine Safety Center, U.S. Coast Guard Stop 7410, 4200 Wilson Boulevard Suite 400, Arlington, VA 20598-7410”; and

b. In paragraph (b)(1), following the text “written request to the”, remove the text “Commanding Officer, U.S. Coast Guard MSC, 2100 2nd St. SW., Stop 7102, Washington, DC 20593-7102” and add, in its place, the text “Commanding Officer (MSC), Attn: Marine Safety Center, U.S. Coast Guard Stop 7410, 4200 Wilson Boulevard Suite 400, Arlington, VA 20598-7410”.

§ 162.060-14 [Amended]

270. In § 162.060-14(b), remove the text “Commanding Officer, U.S. Coast Guard Marine Safety Center, 2100 2nd St. SW., Stop 7102, Washington, DC 20593-7102” and add, in its place, the text “Commanding Officer (MSC), Attn: Marine Safety Center, U.S. Coast Guard Stop 7410, 4200 Wilson Boulevard Suite 400, Arlington, VA 20598-7410”.

§ 162.060-16 [Amended]

271. In § 162.060-16(c), following the text “this determination to the”, remove the text “Director of Commercial Regulations and Standards (CG-5PS), U.S. Coast Guard, 2100 2nd St. SW., Stop 7126, Washington, DC 20593-7126” and add, in its place, the text “Director of Commercial Regulations. Contact Commandant (CG-5PS), Attn: Director of Commercial Regulations, U.S. Coast Guard Stop 7509, 2703 Martin Luther King Jr. Avenue SE., Washington, DC 20593-7509”.

§ 162.060-40 [Amended]

272. Amend § 162.060-40 as follows:

a. In paragraph (b), remove the text “Commandant (CG-ENG), Office of Design and Engineering Standards, U.S. Coast Guard, 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”; and

b. In paragraph (c), remove the text “Commandant (CG-ENG), Office of Design and Engineering Standards, U.S. Coast Guard, 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”.

§ 162.060-42 [Amended]

273. Amend § 162.060-42 as follows:

a. In paragraph (a)(3), remove the text “Commanding Officer, U.S. Coast Guard Marine Safety Center, 2100 2nd St. SW., Stop 7102, Washington, DC 20593-7102” and add, in its place, the text “Commanding Officer (MSC), Attn: Marine Safety Center, U.S. Coast Guard Stop 7410, 4200 Wilson Boulevard Suite 400, Arlington, VA 20598-7410”; and

b. In paragraph (g), remove the text “Commanding Officer, U.S. Coast Guard Marine Safety Center, 2100 2nd St. SW., Stop 7102, Washington, DC 20593-7102” and add, in its place, the text “Commanding Officer (MSC), Attn: Marine Safety Center, U.S. Coast Guard Stop 7410, 4200 Wilson Boulevard Suite 400, Arlington, VA 20598-7410”.

§ 162.161-2 [Amended]

274. In § 162.161-2(a) following the text “available for inspection at”, remove the text “U.S. Coast Guard, Office of Operating and Environmental Standards (CG-OES), 2100 2nd Street SW., Stop 7126, Washington, DC 20593-7126, and is” and add, in its place, the text “Coast Guard Headquarters. Contact Commandant (CG-OES), Attn: Office of Operating and Environmental Standards, U.S. Coast Guard Stop 7509, 2703 Martin Luther King Jr. Avenue SE., Washington, DC 20593-7509. The material is also”.

PART 164—MATERIALS

275. The authority citation for part 164 continues to read as follows:

Authority: 46 U.S.C. 3306, 3703, 4302; E.O. 12234, 45 FR 58801, 3 CFR, 1980 Comp., p. 277; 49 CFR 1.46.

§ 164.007-1 [Amended]

276. In § 164.007-1(c)(1), remove the text “Commandant (CG-ENG), U.S. Coast Guard, 2100 2nd St. SW., Stop 7126, Washington, DC 20593-7126” and add, in its place, the text “Coast Guard Headquarters. Contact Commandant (CG-ENG), Attn: Office of Design and Engineering Systems, U.S. Coast Guard Stop 7509, 2703 Martin Luther King Jr. Avenue SE., Washington, DC 20593-7509”.

§ 164.008-1 [Amended]

277. In § 164.008-1(c)(1), remove the text “Commandant (CG-ENG), U.S. Coast Guard, 2100 2nd St. SW., Stop 7126, Washington, DC 20593-7126” and add, in its place, the text “Commandant (CG-ENG), Attn: Office of Design and Engineering Systems, U.S. Coast Guard Stop 7509, 2703 Martin Luther King Jr. Avenue SE., Washington, DC 20593-7509”.

§ 164.009-9 [Amended]

278. In § 164.009-9(a), remove the text “Commandant (CG-ENG), U.S. Coast Guard, Washington, DC 20593-0001” and add, in its place, the text “Commandant (CG-ENG), Attn: Office of Design and Engineering Systems, U.S. Coast Guard Stop 7509, 2703 Martin Luther King Jr. Avenue SE., Washington, DC 20593-7509”.

§ 164.012-1 [Amended]

279. In § 164.012-1(b), following the text “upon request from the”, remove the text “Commandant (CG-ENG), U.S. Coast Guard, 2100 2nd St. SW., Stop 7126, Washington, DC 20593-7126. The American Society for Testing Materials Standards may be purchased from that society at 100 Barr Harbor Drive” and add, in its place, the text “Coast Guard Headquarters. Contact Commandant (CG-ENG), Attn: Office of Design and Engineering Systems, U.S. Coast Guard Stop 7509, 2703 Martin Luther King Jr. Avenue SE., Washington, DC 20593-7509. ASTM International's standards may be purchased from that organization at 100 Barr Harbor Drive, P.O. Box C700”.

§ 164.013-2 [Amended]

280. In § 164.013-2(a), following the text “(NARA), and at the”, remove the text “U.S. Coast Guard, Lifesaving and Fire Safety Division (CG-ENG-4), 2100 2nd St. SW., Stop 7126, Washington, DC 20593-7126, and is” and add, in its place, the text “Coast Guard Headquarters. Contact Commandant (CG-ENG-4), Attn: Lifesaving and Fire Safety Division, U.S. Coast Guard Stop 7509, 2703 Martin Luther King Jr. Avenue SE., Washington, DC 20593-7509. The material is also”.

§ 164.015-1 [Amended]

281. Amend § 164.015-1 as follows:

a. In paragraph (b)(1), remove the text “Business Service Center, General Services Administration, Washington, DC, 20407” and add, in its place, the text “General Services Administration, Federal Acquisition Service, Office of the FAS Commissioner, 2200 Crystal Drive, 11th Floor, Arlington, VA 22202; telephone 703-605-5400”; and

b. In paragraph (b)(2), remove the text “Commanding Officer, Naval Supply Depot, 5801 Tabor Avenue, Philadelphia, Pa. 19120” and add, in its place, the text “Military Specifications and Standards, Standardization Documents Order Desk, Building 4D, 700 Robbins Avenue, Philadelphia, PA 19111-5094, https://assist.daps.dla.mil/quicksearch/”.

282. Revise § 164.018-5(b) to read as follows:

§ 164.018-5 Specifications and standards incorporated by reference.

* * * * *

(b) The Federal standards may be obtained from the General Services Administration, Federal Acquisition Service, Office of the FAS Commissioner, 2200 Crystal Drive, 11th Floor, Arlington, VA 22202; telephone 703-605-5400. The Military Specifications may be obtained from the Military Specifications and Standards, Standardization Documents Order Desk, Building 4D, 700 Robbins Avenue, Philadelphia, PA 19111-5094, https://assist.daps.dla.mil/quicksearch/.” These materials are also on file in the Federal Register library.

* * * * *

§ 164.018-7 [Amended]

283. In § 164.018-7(a), remove the text “Commandant (CG-ENG), U.S. Coast Guard, 2100 2nd St. SW., Stop 7126, Washington, DC 20593-7126” and add, in its place, the text “Commandant (CG-ENG-4), Attn: Lifesaving and Fire Safety Division, U.S. Coast Guard Stop 7509, 2703 Martin Luther King Jr. Avenue SE., Washington, DC 20593-7509”.

§ 164.019-3 [Amended]

284. Amend § 164.019-3 as follows:

a. In the definition of “Commandant”, remove the text “Commandant (CG-ENG), U.S. Coast Guard Headquarters, 2100 2nd St. SW., Stop 7126, Washington, DC 20593-7126. Telephone: 202 372-1392” and add, in its place, the text “Commandant (CG-ENG-4), Attn: Lifesaving and Fire Safety Division, U.S. Coast Guard Stop 7509, 2703 Martin Luther King Jr. Avenue SE., Washington, DC 20593-7509; telephone 202-372-1392”; and

b. In the definition of “Use Code”, remove the text “Commandant (G-MSE)” and add, in its place, the text “Commandant (CG-ENG-4)”.

285. Amend § 164.023-3 as follows:

a. In paragraph (a), following the text “(NARA), and at” remove the text “the U.S. Coast Guard, Lifesaving and Fire Safety Division (CG-ENG-4), 2100 2nd St. SW., Stop 7126, Washington, DC 20593-7126, and is available from the source” and add, in its place, the text “Coast Guard Headquarters. Contact Commandant (CG-ENG-4), Attn: Lifesaving and Fire Safety Division, U.S. Coast Guard Stop 7509, 2703 Martin Luther King Jr. Avenue SE., Washington, DC 20593-7509. The material is also available from the sources”; and

b. Revise paragraph (c).

The revision reads as follows:

§ 164.023-3 Specifications and standards incorporated by reference.

* * * * *

(c) The Federal standards may be obtained from the General Services Administration, Federal Acquisition Service, Office of the FAS Commissioner, 2200 Crystal Drive, 11th Floor, Arlington, VA 22202; 703-605-5400. Military Specifications and Standards, Standardization Documents Order Desk, Building 4D, 700 Robbins Avenue, Philadelphia, PA 19111-5094, https://assist.daps.dla.mil/quicksearch/.

286. In § 164.120-3, revise the definition of “Commandant” to read as follows:

§ 164.120-3 Definitions.

* * * * *

Commandant means Commandant (CG-ENG-4), Attn: Lifesaving and Fire Safety Division, U.S. Coast Guard Stop 7509, 2703 Martin Luther King Jr. Avenue SE., Washington, DC 20593-7509.

* * * * *

§ 164.120-5 [Amended]

287. In § 164.120-5(a), following the text “available for inspection at”, remove the text “Commandant (CG-ENG-4), U.S. Coast Guard, 2100 2nd Street SW., Stop 7126, Washington, DC 20593-7126” and add, in its place, the text “Coast Guard Headquarters. Contact Commandant (CG-ENG-4), Attn: Lifesaving and Fire Safety Division, U.S. Coast Guard Stop 7509, 2703 Martin Luther King Jr. Avenue SE., Washington, DC 20593-7509”.

PART 169—SAILING SCHOOL VESSELS

288. The authority citation for part 169 continues to read as follows:

Authority: 33 U.S.C. 1321(j); 46 U.S.C. 3306, 6101; Pub. L. 103-206, 107 Stat. 2439; E.O. 11735, 38 FR 21243, 3 CFR, 1971-1975 Comp., p. 793; Department of Homeland Security Delegation No. 0170.1; § 169.117 also issued under the authority of 44 U.S.C. 3507.

289. In § 169.107, revise the definition of “Headquarters” to read as follows:

§ 169.107 Definitions.

* * * * *

Headquarters means the Commandant (CG-ENG), Attn: Office of Design and Engineering Systems, U.S. Coast Guard Stop 7509, 2703 Martin Luther King Jr. Avenue SE., Washington, DC 20593-7509.

* * * * *

§ 169.115 [Amended]

290. Amend § 169.115 as follows:

a. In paragraph (b), following the text “DC 20408 and at”, remove the text “the U.S. Coast Guard, Office of Design and Engineering Standards, (CG-ENG), 2100 2nd St. SW., Stop 7126, Washington, DC 20593-7126” and add, in its place, the text “Coast Guard Headquarters. Contact Commandant (CG-ENG), Attn: Office of Design and Engineering Systems, U.S. Coast Guard Stop 7509, 2703 Martin Luther King Jr. Avenue SE., Washington, DC 20593-7509”;

b. In paragraph (c)(1), following the text “Yacht Council (ABYC),” remove the text “3069 Solomons Island Road, Edgewater, MD 21037” and add, in its place, the text “613 Third Street Suite 10, Annapolis, MD 21403”; and

c. In paragraph (c)(4), remove the text “Naval Publications and Forms Center, Customer Service Code 1052, 5801 Tabor Ave., Philadelphia, PA 19120” and add, in its place, the text “Military Specifications and Standards, Standardization Documents Order Desk, Building 4D, 700 Robbins Avenue, Philadelphia, PA 19111-5094, https://assist.daps.dla.mil/quicksearch/”.

PART 170—STABILITY REQUIREMENTS FOR ALL INSPECTED VESSELS

291. The authority citation for part 170 continues to read as follows:

Authority: 43 U.S.C. 1333; 46 U.S.C. 2103, 3306, 3703; E.O. 12234, 45 FR 58801, 3 CFR, 1980 Comp., p. 277; Department of Homeland Security Delegation No. 0170.1.

§ 170.010 [Amended]

292. In § 170.010, remove the text “Commanding Officer, U.S. Coast Guard Marine Safety Center, 2100 2nd St. SW., Stop 7102, Washington, DC 20593-7102”, and add, in its place, the text “Commanding Officer (MSC), Attn: Marine Safety Center, U.S. Coast Guard Stop 7410, 4200 Wilson Boulevard Suite 400, Arlington, VA 20598-7410,”.

§ 170.015 [Amended]

293. Amend § 170.015 as follows:

a. In paragraph (a), following the text “for inspection at”, remove the text “the Coast Guard, Office of Design and Engineering Standards (CG-ENG), 2100 2nd St. SW., Stop 7126, Washington, DC 20593-7126, and is” and add, in its place, the text “Coast Guard Headquarters. Contact Commandant (CG-ENG), Attn: Office of Design and Engineering Systems, U.S. Coast Guard Stop 7509, 2703 Martin Luther King Jr. Avenue SE., Washington, DC 20593-7509. The material is also”; and

b. In paragraph (c), remove the text “Naval Publications and Forms Center, Code 1052, 5801 Tabor Avenue, Philadelphia, PA 19120” and add, in its place, the text “Military Specifications and Standards, Standardization Documents Order Desk, Building 4D, 700 Robbins Avenue, Philadelphia, PA 19111-5094, https://assist.daps.dla.mil/quicksearch/”.

§ 170.090 [Amended]

294. In § 170.090(g) following the text “file at the”, remove the text “U.S. Coast Guard, Office of Design and Engineering Standards (CG-ENG), 2100 2nd St. SW., Stop 7126, Washington DC 20593-7126” and add, in its place, the text “Coast Guard Headquarters. Contact Commandant (CG-ENG-2), Attn: Naval Architecture Division, U.S. Coast Guard Stop 7509, 2703 Martin Luther King Jr. Avenue SE., Washington, DC 20593-7509”.

295. Revise § 170.100(b) to read as follows:

§ 170.100 Addresses for submittal of plans and calculations.

* * * * *

(b) By visitors to the Commanding Officer, Marine Safety Center, U.S. Coast Guard, 4200 Wilson Boulevard Suite 400, Arlington, VA 22203, or by mail to: Commanding Officer (MSC), Attn: Marine Safety Center, U.S. Coast Guard Stop 7410, 4200 Wilson Boulevard Suite 400, Arlington, VA 20598-7410, in a written or electronic format. Information for submitting the VSP electronically can be found at http://www.uscg.mil/HQ/MSC.”.

PART 171—SPECIAL RULES PERTAINING TO VESSELS CARRYING PASSENGERS

296. The authority citation for part 171 continues to read as follows:

Authority: 46 U.S.C. 2103, 3306; E.O. 12234, 45 FR 58801, 3 CFR, 1980 Comp., p. 277; Department of Homeland Security Delegation No. 0170.1.

297. In § 171.012(a) following the text “available for inspection at the” remove the text “Coast Guard, Office of Design and Engineering Standards, Naval Architecture Division (CG-ENG-2), 2100 2nd St. SW., Stop 7126, Washington, DC 20593-7126, and is available from the sources listed below” and add, in its place, the text “Coast Guard Headquarters. Contact Commandant (CG-ENG-2), Attn: Naval Architecture Division, U.S. Coast Guard Stop 7509, 2703 Martin Luther King Jr. Avenue SE., Washington, DC 20593-7509. The material is also available from the source listed in paragraph (b) of this section”.

PART 172—SPECIAL RULES PERTAINING TO BULK CARGOES

298. The authority citation for part 172 continues to read as follows:

Authority: 46 U.S.C. 3306, 3703, 5115; E.O. 12234, 45 FR 58801, 3 CFR, 1980 Comp., p. 277; Department of Homeland Security Delegation No. 0170.1.

§ 172.020 [Amended]

299. In § 172.020(a), following the text “for inspection at”, remove the text “the Coast Guard, Office of Design and Engineering Standards, Naval Architecture Division (CG-ENG-2), 2100 2nd St. SW., Stop 7126, Washington, DC 20593-7126, and is available from the sources listed below” and add, in its place, the text “Coast Guard Headquarters. Contact Commandant (CG-ENG-2), Attn: Naval Architecture Division, U.S. Coast Guard Stop 7509, 2703 Martin Luther King Jr. Avenue SE., Washington, DC 20593-7509. The material is also available from the source listed in paragraph (b) of this section”.

PART 174—SPECIAL RULES PERTAINING TO SPECIFIC VESSEL TYPES

300. The authority citation for part 174 continues to read as follows:

Authority: 42 U.S.C. 9118, 9119, 9153; 43 U.S.C. 1333; 46 U.S.C. 3306, 3703; E.O. 12234, 45 FR 58801, 3 CFR, 1980 Comp., p. 277; Department of Homeland Security Delegation No. 0170.1.

§ 174.007 [Amended]

301. In § 174.007(a), following the text “for inspection at”, remove the text “the Coast Guard, Office of Design and Engineering Standards, Naval Architecture Division (CG-ENG-2), 2100 2nd St. SW., Stop 7126, Washington, DC 20593-7126, and is available from the sources listed below” and add, in its place, the text “Coast Guard Headquarters. Contact Commandant (CG-ENG-2), Attn: Naval Architecture Division, U.S. Coast Guard Stop 7509, 2703 Martin Luther King Jr. Avenue SE., Washington, DC 20593-7509. The material is also from the sources listed in paragraphs (b) and (c) of this section”.

PART 175—GENERAL PROVISIONS

302. The authority citation for part 175 continues to read as follows:

Authority: 46 U.S.C. 2103, 3205, 3306, 3703; Pub. L. 103-206, 107 Stat. 2439; 49 U.S.C. App. 1804; Department of Homeland Security Delegation No. 0170.1; § 175.900 also issued under 44 U.S.C. 3507.

§ 175.600 [Amended]

303. § 175.600(a) following the text “for inspection at”, remove the text “the U.S. Coast Guard, Office of Design and Engineering Standards (CG-ENG), 2100 2nd St. SW., Stop 7126, Washington, DC 20593-7126, and is available from the sources listed below” and add, in its place, the text “Coast Guard Headquarters. Contact Commandant (CG-ENG), Attn: Office of Design and Engineering Systems, U.S. Coast Guard Stop 7509, 2703 Martin Luther King Jr. Avenue SE., Washington, DC 20593-7509. The material is also available from the sources listed in “Table 175.600: Subchapter T Incorporations by Reference” in this section.

PART 176—INSPECTION AND CERTIFICATION

304. The authority citation for part 176 continues to read as follows:

Authority: 33 U.S.C. 1321(j); 46 U.S.C. 2103, 3205, 3306, 3307; 49 U.S.C. App. 1804; E.O. 11735, 38 FR 21243, 3 CFR, 1971-1975 Comp., p. 743; E.O. 12234, 45 FR 58801, 3 CFR, 1980 Comp., p. 277; Department of Homeland Security Delegation No. 0170.1.

§ 176.675 [Amended]

305. In § 176.675, remove the text “§ 176.605” and add, in its place, the text “§ 176.600”.

PART 177—CONSTRUCTION AND ARRANGEMENT

306. The authority citation for part 177 continues to read as follows:

Authority: 46 U.S.C. 2103, 3306; E.O. 12234, 45 FR 58801, 3 CFR, 1980 Comp., p. 277; Department of Homeland Security Delegation No. 0170.1.

§ 177.202 [Amended]

307. In § 177.202(d), remove the text “Commanding Officer, U.S. Coast Guard Marine Safety Center, 2100 2nd St., SW., Stop 7102, Washington, DC 20593-7102”, and add, in its place, the text “Commanding Officer (MSC), Attn: Marine Safety Center, U.S. Coast Guard Stop 7410, 4200 Wilson Boulevard Suite 400, Arlington, VA 20598-7410”.

§ 177.410 [Amended]

308. In § 177.410(b)(5), following the text “visitors to the”, remove the text “Commanding Officer, U.S. Coast Guard Marine Safety Center, 1900 Half Street SW., Suite 1000, Room 525, Washington, DC 20024, or transmitted by mail to: Commanding Officer, U.S. Coast Guard Marine Safety Center, 2100 2nd St. SW., Stop 7102, Washington, DC 20593-7102” and add, in its place, the text “Commanding Officer, Marine Safety Center, U.S. Coast Guard, 4200 Wilson Boulevard Suite 400, Arlington, VA 22203, or by mail to: Commanding Officer (MSC), Attn: Marine Safety Center, U.S. Coast Guard Stop 7410, 4200 Wilson Boulevard Suite 400, Arlington, VA 20598-7410”.

PART 179—SUBDIVISION, DAMAGE STABILITY, AND WATERTIGHT INTEGRITY

309. The authority citation for part 179 continues to read as follows:

Authority: 43 U.S.C. 1333; 46 U.S.C. 2103, 3306, 3703; E.O. 12234, 45 FR 58801, 3 CFR, 1980 Comp., p. 277; Department of Homeland Security Delegation No. 0170.1.

§ 179.15 [Amended]

310. In § 179.15(a) following the text “It is available for inspection at”, remove the text “the Coast Guard, Office of Design and Engineering Standards, Naval Architecture Division (CG-ENG-2), 2100 2nd St., SW., Stop 7126, Washington, DC 20593-7126, and is” and add, in its place, the text “Coast Guard Headquarters. Contact Commandant (CG-ENG-2), Attn: Naval Architecture Division, U.S. Coast Guard Stop 7509, 2703 Martin Luther King Jr. Avenue SE., Washington, DC 20593-7509. The material is also”.

PART 180—LIFESAVING EQUIPMENT AND ARRANGEMENTS

311. The authority citation for part 180 continues to read as follows:

Authority: 46 U.S.C. 2104, 3306; E.O. 12234, 45 FR 58801, 3 CFR, 1980 Comp., p. 277; Department of Homeland Security Delegation No. 0170.1.

§ 180.137 [Amended]

312. Amend § 180.137 as follows:

a. In paragraph (e)(3), remove the text “§ 180.175(e)(3)(ii),” and add, in its place, the text § 180.175(f)(3)(ii),”; and

b. In paragraph (e)(4), remove the text “§ 180.175(e)(3)(ii)” and add, in its place the text “§ 180.175(f)(3)(ii)”.

PART 188—GENERAL PROVISIONS

313. The authority citation for part 188 continues to read as follows:

Authority: 46 U.S.C. 2113, 3306; Pub. L 103-206, 107 Stat. 2439; 49 U.S.C. 5103, 5106; E.O. 12234, 45 FR 58801, 3 CFR, 1980 Comp., p. 277; Department of Homeland Security Delegation No. 0170.1.

§ 188.10-33 [Amended]

314. In § 188.10-33, remove the text “Office of the Commandant, U.S. Coast Guard, 2100 2nd St. SW., Stop 7000, Washington, DC 20593-7000” and add, in its place the text “Commandant (CG-00), Attn: Commandant, U.S. Coast Guard Stop 7000, 2703 Martin Luther King Jr. Avenue SE., Washington, DC 20593-7000”.

§ 188.35-5 [Amended]

315. In § 188.35-5(b), remove the text “the Office of the Commandant (CG-CVC), U.S. Coast Guard, 2100 2nd St. SW., Stop 7581, Washington, DC 20593-7581, or,” and add, in its place, the text “Coast Guard Headquarters. Contact Commandant (CG-CVC), Attn: Office of Commercial Vessel Compliance, U.S. Coast Guard Stop 7501, 2703 Martin Luther King Jr. Avenue SE., Washington, DC 20593-7501. The standards are also available”.

PART 189—INSPECTION AND CERTIFICATION

316. The authority citation for part 189 continues to read as follows:

Authority: 33 U.S.C. 1321(j); 46 U.S.C. 2113, 3306, 3307; E.O. 12234, 45 FR 58801, 3 CFR, 1980 Comp., p. 277; E.O. 12777, 56 FR 54757, 3 CFR, 1991 Comp., p. 351; Department of Homeland Security Delegation No. 0170.1.

§ 189.15-5 [Amended]

317. In § 189.15-5(b) following the text “supplements, is available from”, remove the text “Commandant (CG-ENG), 2100 2nd St. SW., Stop 7126, Washington, DC 20593-7126; telephone (202) 372-1371; or fax (202) 372-1925” and add, in its place, the text “Commandant (CG-ENG), Attn: Office of Design and Engineering Systems, U.S. Coast Guard Stop 7509, 2703 Martin Luther King Jr. Avenue SE., Washington, DC 20593-7509; telephone 202-372-1371 or fax 202-372-1925”.

§ 189.55-15 [Amended]

318. In § 189.55-15(a)(2), remove the text “Commanding Officer, U.S. Coast Guard Marine Safety Center, 1900 Half Street SW., Suite 1000, Room 525, Washington, DC 20024, or transmitted by mail to: Commanding Officer, U.S. Coast Guard Marine Safety Center, 2100 2nd St. SW., Stop 7102, Washington, DC 20593-7102” and add, in its place, the text “Commanding Officer, Marine Safety Center, U.S. Coast Guard, 4200 Wilson Boulevard Suite 400, Arlington, VA 22203, or transmitted by mail to: Commanding Officer (MSC), Attn: Marine Safety Center, U.S. Coast Guard Stop 7410, 4200 Wilson Boulevard Suite 400, Arlington, VA 20598-7410”.

PART 193—FIRE PROTECTION EQUIPMENT

319. The authority citation for part 193 continues to read as follows:

Authority: 46 U.S.C. 2213, 3102, 3306; E.O. 12234, 45 FR 58801, 3 CFR, 1980 Comp., p. 277; Department of Homeland Security Delegation No. 0170.1.

§ 193.01-3 [Amended]

320. In § 193.01-3(a) following the text “it is available for inspection at”, remove the text “the Coast Guard, Office of Design and Engineering Standards (CG-ENG), 2100 2nd St., SW., Stop 7126, Washington, DC 20593-7126, 202-372-1405, and is” and add, in its place, the text “Coast Guard Headquarters. Contact Commandant (CG-ENG), Attn: Office of Design and Engineering Systems, U.S. Coast Guard Stop 7509, 2703 Martin Luther King Jr. Avenue SE., Washington, DC 20593-7509; telephone 202-372-1405. The material is also”.

PART 195—VESSEL CONTROL AND MISCELLANEOUS SYSTEMS AND EQUIPMENT

321. The authority citation for part 195 continues to read as follows:

Authority: 46 U.S.C. 2113, 3306, 3307; 49 U.S.C. App. 1804; E.O. 12234, 45 FR 58801, 3 CFR, 1980 Comp., p. 277; Department of Homeland Security Delegation No. 0170.1.

§ 195.01-3 [Amended]

322. In § 195.01-3(a) following the text “20408, and at”, remove the text “the U.S. Coast Guard, Office of Design and Engineering Standards, (CG-ENG), 2100 2nd St., SW., Stop 7126, Washington, DC 20593-7126, and is available from the address” and add, in its place, the text “Coast Guard Headquarters. Contact Commandant (CG-ENG), Attn: Office of Design and Engineering Systems, U.S. Coast Guard Stop 7509, 2703 Martin Luther King Jr. Avenue SE., Washington, DC 20593-7509. The material is also available from the source”.

PART 197—GENERAL PROVISIONS

323. The authority citation for part 197 continues to read as follows:

Authority: 33 U.S.C. 1509; 43 U.S.C. 1333; 46 U.S.C. 3306, 3703, 6101; Department of Homeland Security Delegation No. 0170.1.

§ 197.510 [Amended]

324. In § 195.510(a) following the text “material is on file at”, remove the text “U.S. Coast Guard, Office of Operating and Environmental Standards (CG-OES), 2100 2nd St., SW., Stop 7126, Washington, DC 20593-7126 and at” and add, in its place, the text “Coast Guard Headquarters. Contact Commandant (CG-OES), Attn: Office of Operating and Environmental Standards, U.S. Coast Guard Stop 7509, 2703 Martin Luther King Jr. Avenue SE., Washington, DC 20593-7509. You may also contact”.

PART 199—LIFESAVING SYSTEMS FOR CERTAIN INSPECTED VESSELS

325. The authority citation for part 199 is revised to read as follows:

Authority: 46 U.S.C. 3306, 3703; Pub. L. 103-206, 107 Stat. 2439; Department of Homeland Security Delegation No. 0170.1.

§ 199.05 [Amended]

326. In § 199.05(a) following the text “is available for inspection at” remove the text “the U.S. Coast Guard, Lifesaving and Fire Safety Standards Division (CG-ENG-4) 2100 2nd Street SW., Stop 7126, Washington, DC 20593-7126, and at” and add, in its place, the text “Coast Guard Headquarters. Contact Commandant (CG-ENG-4), Attn: Lifesaving and Fire Safety Division, U.S. Coast Guard Stop 7509, 2703 Martin Luther King Jr. Avenue SE., Washington, DC 20593-7509. You may also contact”.

PART 401—GREAT LAKES PILOTAGE REGULATIONS

327. The authority citation for part 401 continues to read as follows:

Authority: 46 U.S.C. 2104(a), 6101, 7701, 8105, 9303, 9304; Department of Homeland Security Delegation No. 0170.1; 46 CFR 401.105 also issued under the authority of 44 U.S.C. 3507.

§ 401.110 [Amended]

328. Amend § 401.110 as follows:

a. In paragraph (a)(2), remove the text “Commandant, U.S. Coast Guard, 2100 2nd St. SW., Stop 7000, Washington, DC 20593-7000” and add, in its place, the text “Commandant (CG-00), Attn: Commandant, U.S. Coast Guard Stop 7000, 2703 Martin Luther King Jr. Avenue SE., Washington, DC 20593-7000”;

b. In paragraph (a)(9) following the text “to the following address:”, remove the text “Commandant (CG-WWM-2), Attn: Director, Great Lakes Pilotage, U.S. Coast Guard, 2100 2nd St. SW., Stop 7581, Washington, DC 20593-7581, Attn: Director, Great Lakes Pilotage” and add, in its place, the text “Commandant (CG-WWM-2), Attn: Great Lakes Pilotage Branch, U.S. Coast Guard Stop 7509, 2703 Martin Luther King Jr. Avenue SE., Washington, DC 20593-7509”; and

c. In paragraph (a)(16), remove the word “Division” and add, in its place, the word “Branch”.

Title 49

PART 7—PUBLIC AVAILABILITY OF INFORMATION

329. The authority citation for part 7 continues to read as follows:

Authority: 5 U.S.C. 552; 31 U.S.C. 9701; 49 U.S.C. 322; E.O. 12600, 3 CFR, 1987 Comp., p. 235.

§ 7.15 [Amended]

330. In § 7.15(c), remove the text “United States Coast Guard, 2100 2nd Street SW., Room 6106, Washington, DC 20593-0001” and add, in its place, the text “Commandant (CG-00), Attn: Commandant, U.S. Coast Guard Stop 7000, 2703 Martin Luther King Jr. Avenue SE., Washington, DC 20593-7000”.

PART 450—GENERAL

331. The authority citation for part 450 continues to read as follows:

Authority: 46 U.S.C. 80503; Department of Homeland Security Delegation No. 0170.1.

§ 450.11 [Amended]

332. In § 450.11(a), remove the text “Commandant, (CG-OES), U.S. Coast Guard, 2100 2nd St. SW., Stop 7126, Washington, DC 20593-7126” and add, in its place, the text “Commandant (CG-OES), Attn: Office of Operating and Environmental Standards, U.S. Coast Guard Stop 7509, 2703 Martin Luther King Jr. Avenue SE., Washington, DC 20593-7509”; and following the text “from the Commandant”, remove the text “(CG-522)” and add, in its place, the text “(CG-OES)”.

PART 451—TESTING AND APPROVAL OF CONTAINERS

333. The authority citation for part 451 continues to read as follows:

Authority: 46 U.S.C. 80503; Department of Homeland Security Delegation No. 0170.1.

§ 451.1 [Amended]

334. In § 451.1(a), remove the text “Commandant (CG-OES), U.S. Coast Guard, 2100 2nd St. SW., Stop 7126, Washington, DC 20593-7126” and add, in its place, the text “Commandant (CG-OES), Attn: Office of Operating and Environmental Standards, U.S. Coast Guard Stop 7509, 2703 Martin Luther King Jr. Avenue SE., Washington, DC 20593-7509”.

PART 452—EXAMINATION OF CONTAINERS

335. The authority citation for part 452 continues to read as follows:

Authority: 46 U.S.C. 80503; Department of Homeland Security Delegation No. 0170.1.

§ 452.7 [Amended]

336. In § 452.7(a), following the text “for approval to the”, remove the text “Commandant (CG-OES), United States Coast Guard, 2100 2nd St. SW., Stop 7126, Washington, DC 20593-7126” and add, in its place, the text “Commandant (CG-OES), Attn: Office of Operating and Environmental Standards, U.S. Coast Guard Stop 7509, 2703 Martin Luther King Jr. Avenue SE., Washington, DC 20593-7509”.

Dated: September 11, 2013.
Kathryn A. Sinniger,
Chief, Office of Regulations and Administrative Law, U.S. Coast Guard.

[FR Doc. 2013-22624 Filed 9-27-13; 8:45 am]

BILLING CODE 9110-04-P